DEPARTMENT OF STATE

Office of Protocol

[Public Notice 4058]

Gifts to Federal Employees From Foreign Government Sources Reported to Employing Agencies in Calendar Year 2001

The Department of State submits the following comprehensive listing of the statements which, as required by law, Federal employees filed with their employing agencies during calendar year 2001 concerning gifts received from foreign government sources. The compilation includes reports of both tangible gifts and gifts of travel or travel expenses of more than minimal value, as defined by statute.

Publication of this listing in the Federal Register is required by Section 7342(f) of Title 5, United States Code, as added by Section 515(a)(1) of the Foreign Relations Authorizations Act, Fiscal Year 1978 (Public Law 95-105, August 17, 1977, 91 Stat. 865).

Dated: April 25, 2002.
Grant S. Green, Jr.,
Under Secretary for Management, Department of State.

AGENCY: White House Office and the National Security Council
[Report of Tangible Gifts]
Name and title of person accepting the gift on behalf of the U.S. Government | Gift, date of acceptance on behalf of the U.S. Government, estimated value, and current disposition or location | Identity of foreign donor and government | Circumstances justifying acceptance
President | Inuit sculpture of walrus in green soapstone with ivory tusks, created by J.B. Kolola (12″ x 7″ x 5″). Recd—February 5, 2001. Est. Value—$700. Archives Foreign | The Right Honorable Jean Chretien, P.C., M.P., Prime Minister of Canada | Non-acceptance would cause embarrassment to donor and U.S. Government.
President | Red Oriental wool rug (approximately 39″ x 63″) with an additional 4″ of fringe on each side. Recd—February 14, 2001. Est. Value—$400. Archives Foreign | His Excellency Kanat B. Saudabayev, Ambassador of the Republic of Kazakhstan | Non-acceptance would cause embarrassment to donor and U.S. Government.
| Book: “Nazarabayev—My Life, My Times, and the Future,” an autobiography. Recd—February 14, 2001. est. Value—$30. Archives Foreign
President | (1) Two book set (English and Spanish): “Guanajuato: Places and Pathways” and “Guanajuato: Sitios y Recorridos,” by Consuelo Tovar. (2) Handmade black leather cowboy boots with eagles on each side; made by the Liberty Boot Company. Recd—February 15, 2001. Est. Value—$1900. Archives Foreign | The Honorable Juan Carlos Romero Hicks, Governor of the State of Guanajuato | Non-acceptance would cause embarrassment to donor and U.S. Government.
President | Handmade black and maroon ostrich skin cowboy boots made by the Montana Boot Company. Recd—February 15, 2001. Est. Value—$1500. Archives Foreign | His Excellency Vicente Fox Quesada, President of the United Mexican States | Non-acceptance would cause embarrassment to donor and U.S. Government.
| Black leather belt with a sterling silver belt buckle shaped to form “BUSH”. Recd—February 15, 2001. Est. Value—$400. Archives Foreign
| Pitiado belt decorated with cactus thread. Recd—February 15, 2001. Est. Value—$400. Archives Foreign
President | Black felt cowboy hat by the Arlop Hat Company. Recd—February 15, 2001. Est. Value—$250. Archives Foreign | The Honorable Eduardo Ezequiel Arroyo Roldan, Mayor of San Francisco Del Rincon, Guanajuato | Non-acceptance would cause embarrassment to donor and U.S. Government.
| Black felt sombrero with 10k gold thread trim stitched “San Francisco del Rincon, Gto 2001 Fox Bush San Cristobal” around the rim; made by the Salazar Yepez Hat company. Recd—February 15, 2001. Est. Value—$1800. Archives Foreign
| “Concord” gym bag with five baseball hats with “Concord” symbol; three pairs of men's running shoes; two short-sleeved “Concord” shirts, white with black trim; two short-sleeved “Concord” shirts, black and white trim. Recd—February 15, 2001. Est. Value—$552. Archives Foreign
President | (1) Key to the city of Leon in a black case with a plaque “Llave de la Ciudad de Leon de los Aldama Entregada por su Govierno al Presidente de los Estados Unidos de Norte America George W. Bush Leon de los Aldama, Guanajuato, Mexico a 16 de Febrero del ano 2001.” Small Mexican flag lapel pin included. (2) 8″ metal replica of “Arco Triunfal” on a wooden base. (3) Hardcover book: “Leon: Trayectoria y Destino”, by Mariano Gonzalez Leal. (4) Handmade black leather boots with blue and white stitching from the San Diego Boot Company. Recd—February 15, 2001. Est. Value—$1620. Archives Foreign | The Honorable Luis Ernesto Ayala Torres, Mayor of the City of Leon | Non-acceptance would cause embarrassment to donor and U.S. Government.
President | Painting: De la Serie “Paisajes de Cafetal” by Edmundo Otoniel, 11″ x 14″ landscape scene triple matted and framed in a gold-painted wooden frame (26″ x 29″. Recd—March 2, 2001. Est. Value—$1200. Archives Foreign | His Excellency Francisco Guillermo Flores Perez, President of the Republic of El Salvador | Non-acceptance would cause embarrassment to donor and U.S. Government.
President | Model of a turtle ship (keo bug seon). 5.5″ x 5.5″ x 5.5″, executed in white painted aluminum; contained in a glass case on a rosewood base with brass plaque engraved “Presented to his Excellency George Walker Bush, the President of the United States of America by Kim Dae-jung, the President of the Republic of Korea March 7, 2001”. Recd—March 7, 2001. Est. Value—$400. Archives Foreign | His Excellency Kim Dae-jung, President of the Republic of Korea | Non-acceptance would cause embarrassment to donor and U.S. Government.
| Book: “Three Stage' Approach to Korean Reunification,” by President Kim Dae-jung. Recd—March 7, 2001. Est. Value—$40. Archives Foreign
President | Mirror: 36″ x 50″ in an elaborate 5″ wooden inlay frame; handmade in Syria. Recd—March 13, 2001. Est. Value—$600. Archives Foreign | His Excellency Rostom Al-Zoubi, Ambassador of the Syrian Arab Republic | Non-acceptance would cause embarrassment to donor and U.S. Government.
President | Large (12″ diameter) Dublin Crystal bowl, engraved on side “Presented to George W. Bush, President of The United States of America on the occasion of St. Patrick's Day 2001 by the Taoiseach, Bertie Ahern, T.D., on behalf of the people of Ireland.” Gift also included 5 pint-size bags of shamrocks. Recd—March 16, 2001. Est. Value—$295. Archives Foreign | His Excellency Bertie Ahern, Prime Minister of Ireland | Non-acceptance would cause embarrassment to donor and U.S. Government.
President | Portrait: Laser picture of President Bush on stretch nylon fabric 16″ x 12″), double matted in wooden frame (23¼″ x 18¼″). Recd—March 19, 2001. Est. Value—$375. Archives Foreign | His Excellency Yoshiro Mori, Prime Minister of Japan | Non-acceptance would cause embarrassment to donor and U.S. Government.
| Vase: Kutani ware, round 6½″ x 20″ in dark blue shading to green color. Recd—March 19, 2001. Est. Value—$350. Archives
President | Etching (20″ x 15″): “Draught of the City of Jerusalem” with a plaque engraved: “Presented to The Honorable George W. Bush, President The United States of America, In Friendship, March 2001 Ariel Sharon State of Israel Prime Minister.” Recd—March 20, 2001. Est. Value—$275. Archives Foreign | His Excellency Ariel Sharon, Prime Minister of Israel | Non-acceptance would cause embarrassment to donor and U.S. Government.
President | Boots: navy blue ostrich skin stitched with “GWB”, “2001”, the American and Mexican flags, and a symbolic Mexican design. Recd—March 22, 2001. Est. Value—$1800. Archives Foreign | His Excellency Vicente Fox Quesada, President of the United Mexican States | Non-acceptance would cause embarrassment to donor and U.S. Government.
President | Coin: “Pontificate of John Paul II” gold coin, issued 12 Sept 2000. Recd—March 26, 2001. Est. Value—$405. Archives Foreign | His Eminence Edmund Cardinal Szoka, President, Pontifical Commission for Vatican City State | Non-acceptance would cause embarrassment to donor and U.S. Government.
| Coin: “Pontificate of Paul Paul II” coin, issued 12 Sept 2000. Recd—March 26, 2001. Est. Value—$209. Archives Foreign
President | Eschenbach binoculars and canvas carrying case. Recd—March 29, 2001. Est. Value—$267. Archives Foreign | His Excellency Gerhard Schroeder, Chancellor of the Federal Republic of Germany | Non-acceptance would cause embarrassment to donor and U.S. Government.
| Hardcover book: “Berlin 360,” by Jaron Verlag. Book has panoramic photographs of various scenes in Berlin with captions in German. Recd—March 29, 2001. Est. Value—$75. Archives Foreign
President | Rug: Mamluk design, all silk (approximately 4′ x 6′ machine spun Egyptian rug. Recd—April 2, 2001. Est. Value—$1500. Archives Foreign | His Excellency Mohamed Hosny Mubarak, President of the Arab Republic of Egypt | Non-acceptance would cause embarrassment to donor and U.S. Government.
President | Vase; metal in the shape of the Aries symbol (a ram's head). Recd—April 9, 2001. Est. Value—$400. Archives Foreign | His Excellency Robert Kocharian, President of the Republic of Armenia | Non-acceptance would cause embarrassment to donor and U.S. Government.
President | Crystal vase (10″ x 4½″): handmade Swedish frosted glass with crown engraved on top and a landscape design underneath; wood base with brass plaque and a wood display case (14″ x 8¾″ x 8½″) also included. Recd—April 10, 2001. Est. Value—$600. Archives Foreign | His Majesty King Abdullah II bin Al Hussein of the Hashemite, Kingdom of Jordan | Non-acceptance would cause embarrassment to donor and U.S. Government.
President | “Coordillerana” saddle, stirrup, stirrup's belt, blue poncho, poncho, and silver bridle. Recd—April 19, 2001. Est. Value—$438. Archives Foreign | His Excellency The President of the Argentine Nation and Mrs. de De la Rua | Non-acceptance would cause embarrassment to donor and U.S. Government.
| Silver “GB” belt buckle and leather belt. Recd—April 19, 2001. Est. Value—$200. Archives Foreign
President | Artwork (18″ x 21″): four pictures of different Quebec scenes by Antoine, Dumas; all numbered, 30 of 80, and signed by artist. Recd—April 20, 2001. Est. Value—$575. Archives Foreign | The Right Honorable Jean Chretien, P.C., M.P., Prime Minister of Canada | Non-acceptance would cause embarrassment to donor and U.S. Government.
President | Wooden box with carving of Chateau Frontenac on front containing 4 bottles of Inniskillin wine ('97 Oak aged and '98 Vidal). Recd—April 20, 2001. Est. Value—$336. Handled pursuant to Secret Service policy | The Right Honorable Jean Chretien, P.C., M.P., Prime Minister of Canada | Non-acceptance would cause embarrassment to donor and U.S. Government.
President | Hardback book: “Sepultado en el olvido: Atlas Historiografico,″ by Alejandro, Bolanos Geyer. Recd—April 21, 2001. Est. Value—$300. Archives Foreign | His Excellency, The President of the Republic of Nicaragua and Exelentisima Maria Dolores Aleman | Non-acceptance would cause embarrassment to donor and U.S. Government.
President | Framed paintings (21″ x 21½″): (1) town scene, (2) village by the beach. Recd—April 25, 2001. Est. Value—$700. Archives Foriegn | His Excellency, Rafiq al-Hariri, Prime Minister of the Republic of Lebanon | Non-acceptance would cause embarrassment to donor and U.S. Government.
President | Color photograph (approximately 9″ x 7″) inscribed to President in a silver and leather frame. Recd—May 7, 2001. Est. Value—$500. Archives Foreign | His Highness Sheikh Sulman bin Hamad bin Isa Al-Khalifa, Crown Prince of the State of Bahrain, and Head of the Bahrain Defense Force | Non-acceptance would cause embarrassment to donor and U.S. Government.
| Curved gold saber and sheath, approximately 39″ long. Recd—May 7, 2001. Est. Value—$10000. Archives Foreign
President | Bottle (750ml) of Sljiva liquor. Recd—May 9, 2001. Est. Value—$16. Handled pursuant to Secretary Service policy | His Excellency Vojislav Kostunica, President of the Federal Republic of Yugoslavia | Non-acceptance would cause embarrassment to donor and U.S. Government.
| Icon: 14″ × 10″ painted wood icon depicting St. George on a horse slaying a monster. Recd—May 9, 2001. Est. Value—$250. Archives Foreign |  |
President | 14″ black sculpture of a panther with display stand; held in a large green leather box. Recd—May 11, 2001. Est. Value—$850. Archives Foreign | His Excellency, Olusegun Obasanjo, President of the Federal Repubilic of Nigeria | Non-acceptance would cause embarrassment to donor and U.S. Government.
President | Two signed, limited edition engravings, approximately 6½″ x 8″ Recd—May 23, 2001. Est. Value—$400. Archives Foreign | His Excellency, Vicente Fox Quesada, President of the United Mexican States | Non-acceptance would cause embarrassment to donor and U.S. Government.
President | Hardcover book: “Scrolls from the Dead Sea.″ Hardcover book: “The Golden Book of Psalms,″ bound in buffalo leather, printed in Hebrew and English, and held in a leather and wood box. Recd—May 31, 2001. Est. Value—$535. Archives Foreign | His Excellency Moshe Katzav, President of Israel | Non-acceptance would cause embarrassment to donor and U.S. Government.
| 38″ x 9″ framed reproduction of a Dead Sea Scroll; held in a blue velvet box. Recd—May 31, 2001. Est. Value—$300. Archives Foreign
President | Waterman blue fountain pen with NATO logo on tip. Recd—June 13, 2001. Est. Value—$275. Archives Foreign | The Right Honorable Lord Robertson of Port Ellen, P.C., Screatary General of the North Atlantic Treaty Organization | Non-acceptance would cause embarrassment to donor and U.S. Government.
President | Four crystal wine glasses. Recd—June 13, 2001. Est. Value—$800. Archives Foreign | His Excellency Guy Verhofstadt, Prime Minister of Belgium | Non-acceptance would cause embarrassment to donor and U.S. Government.
President | Crystal globe (10″ diameter) with Slovenia marked in gold. Globe rotates and rests on marble base (9″d) with plaque engraved “Republika Slovenija 16.6.2001.″ Recd—June 16, 2001. Est. Value—$250. Archives Foreign | His Excellency Milan Kucan, President of the Republic of Slovenia | Non-acceptance would cause embarrassment to donor and U.S. Government.
| Hardcover book: “Slovenia: The First Ten Years,″ Recd—June 16, 2001. Est. Value—$80. Archives Foreign
President | Silver relief of the Kremlin (2″ x 5″) and 5 silver coins; held in blue presentation box. Recd—June 16, 2001. Est. Value—$350. Archives Foreign | His Excellency, Vladimir Putin, President of the Russian Federation | Non-acceptance would cause embarrassment to donor and U.S. Government.
President | Cloth (11″ x 6′8″): green, gold, black, purple and red hand woven “Kente” cloth. Recd—June 29, 2001. Est. Value—$650. Archives Foreign | His Excellency John Kufuor, President of the Republic of Ghana | Non-acceptance would cause embarrassment to donor and U.S. Government.
President | Fishing rod: 6″ Daiwa “Grand Wave-X Off-shore” rod; specialized jigging model 63 HRJ-S. Recd—June 30, 2001. Est. Value—$399. Archives Foreign | His Excellency Junichiro Koizumi, Prime Minister of Japan | Non-acceptance would cause embarrassment to donor and U.S. Government.
| Sony P50 digital camera. Recd—June 30, 2001. Est. Value—$400. Archives Foreign
President | Saddle: black with gold and silver embroidery, red leather trim, black fringe with silver sequins, and intricately engraved metal strirrups; held in a glass case. Recd—July 6, 2001. Est. Value—$500. Archives Foreign | His Majesty Mohamed VI, King of Morocco | Non-acceptance would cause embarrassment to donor and U.S. Government.
President | Sword: 29″ silver handle and sheath with motif of flowers and rope, and coral stones. Recd—July 12, 2001. Est. Value—$1000. Archives Foreign | His Excellency Abdelkaziz Bouteflika, President of the People's Democratic Republic of Algeria | Non-acceptance would cause embarrassment to donor and U.S. Government.
| Saddle (39″ x 41″) with 15″ seat and wool blanket lining: green leather with gold and silver rope applique with matching neck piece (50″ x 3″) and head piece (33″ x 15″). Wood stand for resting the saddle (31″ x 22″ x 15″). Recd—July 12, 2001. Est. Value—$1400. Archives Foreign
| Dates (10 boxes): “Dattes Deglet Nour d'Algerie, Branchettes.” Recd—July 12, 2001. Est. Value—$220. Handled pursuant to Secret Service policy
| Wine (36 bottles): Domaine de Sebra (12); Medea (12); Cuvee du President (12). Recd—July 12, 2001. Est. Value—$480. Handled pursuant to Secret Service policy
President | Silver frame (8½″ x 12″): with the Royal crest engraved on top, and matted and signed photograph of Prince Philip. Recd—July 19, 2001. Est. Value—$350. Archives Foreign | His Royal Highness The Prince Philip, Duke of Edinburgh | Non-acceptance would cause embarrassment to donor and U.S. Government.
President | Art prints (4): copper plates (30″ x 22½″) hand printed on Fabriano Tiepolo paper depicting four Greco-Roman theaters; all signed and numbered. Recd—July 20, 2001. Est. Value—$800. Archives Foreign | His Excellency Silvio Berlusconi, President of the Council of Ministers of the Italian Republic | Non-acceptance would cause embarrassment to donor and U.S. Government.
President | Porcelain bowl: 15½″ white and gold crater-shaped bowl by Richard Ginori; crafted in the style of Carlo Leopoldo Ginori Lisci; with scalloped edges and four mermaid figures atop a base featuring two horses. Recd—July 20, 2001. Est. Value—$1200. Archives Foreign | His Excellency Silvio Berlusconi, President of the Council of Ministers of the Italian Republic | Non-acceptance would cause embarrassment to donor and U.S. Government.
President | Toiletries: Aqua di Parma cologne (6 oz.); soap (100 g); facial cream (3.3 oz.); and cologne deodorant (5 oz.). Recd—July 20, 2001. Est. Value—$263. Handled pursuant to Secret Service policy | His Excellency Silvio Berlusconi, President of the Council of Ministers of the Italian Republic | Non-acceptance would cause embarrassment to donor and U.S. Government.
| Yellow leather Aqua di Parma toiletries case. Recd—July 20, 2001. Est. Value—$100. Archives Foreign
President | Watch: Stradivari 1715 wristwatch with black leather band and silver casing engraved “George W. Bush” on side. Recd—July 20, 2001. Est. Value—$500. Archives Foreign | His Excellency Silvio Berlusconi, President of the Council of Ministers of the Italian Republic | Non-acceptance would cause embarrassment to donor and U.S. Government.
President | Leatherbound hardcover book (first edition): “Storia Della Scienza, Volume I” in a brown leather sleeve; accompanied by an engraved book plaque. Recd—July 20, 2001. Est. Value—$350. Archives Foreign | His Excellency Silvio Berlusconi, President of the Council of Ministers of the Italian Republic | Non-acceptance would cause embarrassment to donor and U.S. Government.
President | Watch: Franck Muller Chrometro wristwatch with gold casing and brown leather band, Recd—July 27, 2001. Est. Value—$10900. Archives Foreign | His Excellency Silvio Berlusconi, President of the Council of Ministers of the Italian Republic | Non-acceptance would cause embarrassment to donor and U.S. Government.
President | Lap desk: portable black leather Pineider writing desk (17½″ x 17¼″ x 15½″) with personalized stationery, fountain pens and nibs, and inkwell. Recd—July 27, 2001. Est. Value—$1650. Archives Foreign | His Excellency Sivlio Berlusconi, President of the Council of Ministers of the Italian Republic | Non-acceptance would cause embarrassment to donor and U.S. Government.
President | Ties (3): “Battistoni” silk twill (navy blue). Recd—July 30, 2001. Est. Value—$390. Archives Foreign | His Excellency Silvio Berlusconi, President of the Council of Ministers of the Italian Republic | Non-acceptance would cause embarrassment to donor and U.S. Government.
President | Photo album: leather imprinted with “Presidenza della Republica Italiana, George W. Bush, Presidente degli Stati Uniti D'America, Genova—Roma, 20-23 Luglio 2001,” containing photos from the Presidential visit. Recd—July 30, 2001. Est. Value—$200. Archives Foreign | His Excellency Carlo Azeglio Ciampi, President of the Italian Republic | Non-acceptance would cause embarrassment to donor and U.S. Government.
President | Wooden carving: 40″ female figure carrying child on her back and a water urn on her head; carved from light-colored ebony with a plaque attached to the base: “To The Honorable George W. Bush President of the United States From, Ambassador Serge Mombouli Republic of Congo, Credentials Presented 7-31-01.” Recd—July 30, 2001. Est. Value—$1600 | His Excellency Serge Mombouli, Ambassador of the Republic of Congo | Non-acceptance would cause embarrassment to donor and U.S. Government.
President | Briefcase: made of black real carbon fiber by “Tradition and Technology” (4″ x 14″ x 17″). Recd—July 31, 2001. Est Value—$800. Archives Foreign | His Excellency Silvio Berlusconi, President of the Council of Ministers of the Italian Republic | Non-acceptance would cause embarrassment to donor and U.S. Government.
President | Jacket: Barbour Thornproof, Classic Beaufort with zip-in vest and snap-on hood. Recd—July 31, 2001. Est. Value—$354. Archives Foreign | The Right Honorable Tony Blair, M.P., Prime Minister | Non-acceptance would cause embarrassment to donor and U.S. Government.
President | Framed document: 27″ x 32″ framed and matted reproduction of the “Declaration of Quebec City” from the Summit of the Americas, April 22, 2001; signed by attendees. Recd—August 20, 2001. Est. Value—$180. Archives Foreign | The Right Honorable Jean Chretien, P.C., M.P., Prime Minister of Canada | Non-acceptance would cause embarrassment to donor and U.S. Government.
| CD and videocassette: “Amerythmes: Sommet des Ameriques, Quebec, Canada 2001.” Recd—August 20, 2001. Est. Value—$30. Archives Foreign
| Album: 9″ x 10″ burgundy leather photo album embossed with gold crest, containing photographs of the Presidential visit to Quebec in April 2001. Recd—August 20, 2001. Est. Value—$201. Archives Foreign
President | Shirt: long-sleeve wool shirt with blue and green stripes. Recd—September 10, 2001. Est. Value—$150. Archives Foreign | The Honorable John Howard, Prime Minister of Australia | Non-acceptance would cause embarrassment to donor and U.S. Government.
| Boots: custom-made boots of Australian crocodile, kangaroo, and emu hide. Recd—September 10, 2001. Est. Value—$496. Archives Foreign
| Bowl: wooden bowl (16″ x 10″) made of Australian red cedar, with hinged lid and flower design on lid; held in satin-lined polished wood case. Recd—September 10, 2002. Est. Value—$404. Archives Foreign
President | Wreath of flowers. Recd—September 17, 2001. Est. Value—$300. Handled pursuant to Secret Service policy | His Excellency, Teodoro Biyogo Nsue, Ambassador of the Republic of Equatorial Guinea | Non-acceptance would cause embarrassment to donor and U.S. Government.
President | Watch: Bernard-Richards quartz watch with Roman and Arabic dials and a leather band; engraved on back “Presidence de la Republique francaise.” Recd—September 19, 2001. Est Value—$350. Archives Foreign | His Excellency Jacques Chirac, President of the French Republic | Non-acceptance would cause embarrassment to donor and U.S. Government.
| Wine: 6 bottles of 1990 Chateau La Lagune Haut-Medoc win. Recd—Septmeber 19, 2001. Est. Value—$372. Handled pursuant to Secret Service policy
President | Wood carving: 31″ elaborately carved ebony in the figure of a male and female head. Recd—September 26, 2001. Est. Value—$225. Archives Foreign | Her Excellency Soekarnopoutri Megawati, President of the Republic of Indonesia | Non-acceptance would cause embarrassment to donor and U.S. Government.
President | Framed original cartoon by Washington Times cartoonist Bill Garner; two-panel drawing of President Bush at joint session of Congress in September 2001. Recd—October 1, 2001. Est. Value—$600. Archives Foreign | His Royal Highness Prince Bandar bin Sultan bin Abdul Aziz, Ambassador of the Kingdom of Saudi Arabia | Non-acceptance would cause embarrassment to donor and U.S. Government.
President | Vase (14″): turquoise frosted glass bowl (15″ diameter) on a gold and silver stand surrounded by five gnus. Recd—October 4, 2001. Est. Value—$10000. Archives Foreign | His Highness Sheikh Hamad bin Khalifa Al Thani, Amir of the State of Qatar | Non-acceptance would cause embarrassment to donor and U.S. Government.
| CD: “Qatar: The Modern State.” Recd—October 4, 2001. Est. Value—$15. Archives Foreign |  |
President | Painting: 23″ round enamel painting on copper of St. George on a horse slaying the dragon, with “Good Defeats Evil” above it; held on a 35″ × 35″ wood frame. Recd—October 5, 2001. Est. Value—$800. Archives Foreign | His Excellency Eduard Shevardnadze, President of Georgia | Non-acceptance would cause embarrassment to donor and U.S. Government.
President | Parchment commendation of George W. Bush from “Republica de Colombia Congreso de Colombia Sesion Plenaria”; received in a leather folder embossed with crest and “Senado de la Republica”. Recd—October 12, 2001. Est. Value—$400. Archives Foreign | The Honorable Carlos Garcia Orjuela, President of the Senate of the Republic of Colombia | Non-acceptance would cause embarrassment to donor and U.S. Government.
President | Watch: silver Piaget watch with rectangular face. Recd—October 16, 2001. Est. Value—$5900. Archives Foreign | His Excellency Silvio Berlusconi, President of the Council of Ministers of the Italian Republic | Non-acceptance would cause embarrassment to donor and U.S. Government.
President | Bow: 6′ lacquered bamboo bow bound by rattan; made in the same manner as those of the shoguns. Recd—October 20, 2001. Est. Value—$650. Archives Foreign | His Excellency Junichiro Koizumi, Prime Minister of Japan | Non-acceptance would cause embarrassment to donor and U.S. Government.
| Wooden stand and four arrows; stand designed to hold large bamboo bow. Recd—October 20, 2001. Est. Value—$60. Archives Foreign
| Arrow: antique fork-shaped arrow in a wooden box with calligraphy by the Prime Minister: “The arrow to defeat the evil and bring peace on earth.” Recd—October 20, 2001. Est. Value—$2400. Archives Foreign |  |
| Photograph: 4″ x 6″ color photo of a man in traditional shogun costume on horseback with large bow and arrow; held in a tinted lucite frame. Recd—October 20, 2001. Est. Value—$30. Archives Foreign |  |
President | Hardcover book series (10 volumes): “Kasaysayan: The Story of the Filipino People,” published by Reader's Digest. Recd—October 21, 2001. Est. Value—$350. Archives Foreign | Her Excellency Gloria Macapagal-Arroyo, President of the Republic of the Philippines | Non-acceptance would cause embarrasement to donor and U.S. Government.
President | Box: 5¼″ x 3¾″ x 2″ wood-lined silver box with glass insert in lid displaying piece of Peruvian fabric. Recd—October 24, 2001. Est. Value—$200. Archives Foreign | His Excellency Alejandro Toledo Manrique, President of the Republic of Peru | Non-acceptance would cause embarrassment to donor and U.S. Government.
| Hardcover coffee table book: “Calendar of Peru: Fiesta Times.” Recd—October 24, 2001. Est. Value—$75. Archives Foreign
President | Rice bowl: ornate silver bowl with lid and gold details, made in traditional Malay silver crafting method. Recd—October 24, 2001. Est. Value—$750. Archives Foreign | His Excellency YAB Dato Seri Dr. Mahathir bin Mohamad, Prime Minister of Malaysia | Non-acceptance would cause embarrasement to donor and U.S. Government.
President | Box: 8¼″ x 6½″ wood box carved with the APEC CEO Summit logo; lined in yellow silk and containing a glass snuff bottle painted with an image of the President, with a wood display stand. Recd—October 24, 2001. Est. Value—$1000. Archives Foreign | Mr. Yu Ziaozong, Chairman, China Council for the Promotion of International Trade | Non-acceptance would cause embarrassment to donor and U.S. Government.
President | Vase: ceramic vase painted with Chinese landscape; held in a silk box with rosewood stand. Recd—October 24, 2001. Est. Value—$150. Archives Foreign | His Excellency Jiang Zemin, President of the People's Republic of China | Non-acceptance would cause embarrassment to donor and U.S. Government.
| Tunic: blue and gold, traditional Chinese silk tunic lined in ivory silk and held in a personalized red silk garment bag. Recd—October 24, 2001. Est. Value—$350. Archives Foreign
President | Vessel: 12″ silver and gold lidded pitcher with elaborate detailing. Recd—October 25, 2001. Est. Value—$850. Archives Foreign | His Highness Sheikh Sulman bin Hamad bin Isa Al-Khalifa, Crown Prince of the State of Bahrain and Head of the Bahrain Defense Force | Non-acceptance would cause embarrassment to donor and U.S. Government.
President | Dates: two boxes of Algerian dates. Recd—November 6, 2001. Est. Value—$130. Handled pursuant to Secret Service policy | His Excellency Abdelaziz Bouteflika, President of the People's Democratic Republic of Algeria | Non-acceptance would cause embarrassment to donor and U.S. Government.
| Wine (12 bottles): 1998 Domanine Sebra, 1998 Domaine Mamounia, and 1998 Domaine Khadra (4 bottles of each). Recd—November 6, 2001. Est. Value—$180. Handled pursuant to Secret Service policy
| Rug: 6′ x 9′ multi-colored area rug made of native Algerian wool. Recd—November 6, 2001. Est. Value—$2800. Archives Foreign.
| Mosaic: 51″ x 47″ ceramic tile mosaic in blue and green floral pattern, in a wooden frame. Recd—November 6, 2001. Est. Value—$1800. Archives Foreign
President | Wine: 6 bottles of 1990 Chateau Talbot Saint-Julien. Recd—November 7, 2001. Est. Value—$450. Handled pursuant to Secret Service policy | His Excellency Jacques Chirac, President of the French Republic | Non-acceptance would cause embarrassment to donor and U.S. Government.
President | Sterling silver tray (11″ x 11″) and bowl (8″) with bulls around the edges. Recd—November 9, 2001. Est. Value—$1000. Archives Foreign | His Excellency Atal Bihari Vajpayee, Prime Minister of the Republic of India | Non-acceptance would cause embarrassment to donor and U.S. Government.
President | Facsimile of letter recognizing the United States as a nation; held in a leather presentation box embossed with Croation crest. Recd—November 10, 2001. Est. Value—$300. Archives Foreign | His Excellency Stjephan Mesic, President of the Republic of Croatia | Non-acceptance would cause embarrassment to donor and U.S. Government.
President | Samovar: 40″ electric stainless steel tea urn with platter. Recd—November 13, 2001. Est. Value—$750. Archives Foreign | His Excellency Vladimir Putin, President of the Russian Federation | Non-acceptance would cause embarrassment to donor and U.S. Government.
President | Commemorative coin: gold coin with “Commemoraction Cenenario Natalicio de Rubon Dario” printed inside lid of blue box with blue velvet interior. Est. Value—$300. Archives Foreign | His Excellency Enrique Bolanos, President-elect of the Republic of Nicaragua | Non-acceptance would cause embarrassment to donor and U.S. Government.
President | CDs (2): commemorating September 11 attacks: “Long Live America” and “My Heart's Song: For NYC and the World;” lyrics of “Long Live America!” in silver painted frame (8″ x 10″). Recd—November 21, 2001. Est. Value—$45. Archives Foreign | Her Excellency Gloria Macapagal-Arroyo, President of the Republic of the Philippines and Mr. Jose Miguel Arroyo | Non-acceptance would cause embarrassment to donor and U.S. Government.
| Hardcover art book: “Kiukok: Deconstructing Despair,” by Alfredo Roces. Recd—November 21, 2001. Est. Value—$75. Archives Foreign
| Cuff links: yellow mother of pearl cuff links set in 18K gold. Recd—November 21, 2001. Est. Value—$300. Archives Foreign
| Painting: 19″ x 25″ painting “Rooster” by Filippino artist Ang Kiukok in a goldtone frame. Recd—November 21, 2001. Est. Value—$450. Archives Foreign
President | Tea: 72 packets of La Virginia Argentine tea. Recd—November 27, 2001. Est. Value—$72. Handled pursuant to Secret Service policy | His Excellency The president of the Argentine Nation and Mrs. de De la Rua | Non-acceptance would cause embarrassment to donor and U.S. Government.
| Box: 11½″ x 7″ x 3½″ sterling silver box with wood interior and crest of Argentina on lid. Recd—November 27, 2001. Est. Value—$450. Archives Foreign
President | Saddle: Western-style brown leather saddle with silver accents. Recd—November 27, 2001. Est. Value—$500. Archives Foreign | His Excellency Pervez Musharraf, President of the Islamic Republic of Pakistan | Non-acceptance would cause embarrassment to donor and U.S. Government.
| Hat: brown leather hat with drawstring. Redc—November 27, 2001. Est. Value—$75. Archives Foreign
President | Artwork (45.5″ x 35″): oil painting of five African tribal dancers in gold-toned frame. Recd—November 27, 2001. Est. Value—$500. Archives Foreign | His Excellency Didier Ratsiraka, President of the Republic of Madagascar | Non-acceptance would cause embarrassment to donor and U.S. Government.
| Artwork (31″ x 27″): oil painting of village scene with purple flowering tree; held in wooden frame painted white with red accents. Recd—November 27, 2001. Est. Value—$325. Archives Foreign
President | Artwork (9″ x 12″): blue cross with black overlay, and yellow and red background, by Rafael Canogar, numbered 17/25. Recd—November 28, 2001. Est. Value—$500. Archives Foreign | His Excellency Jose Maria Aznar, President of the Government of Spain | Non-acceptance would cause embarrassment to donor and U.S. Government.
President | Sword: 29″ silver saber with curved blade and scabard with elaborate detailing and amber stones. Recd—November 28, 2001. Est. Value—$1500. Archives Foreign | His Excellency Ali Abdullah Saleh, President of the Republic of Yemen | Non-acceptance would cause embarrassment to donor and U.S. Government.
| Fabric (4 pieces): 98″ x 49″ blue and orange striped material; 116″ x 46″): black and orange striped material (2); and 100″ x 44″ blue and yellow striped material. Recd—November 28, 2001. Est. Value—$300. Archives Foreign
President | Framed photograph: 27″ x 24″ doubled matted color photo of then-Governor Bush at the Western Wall in Jerusalem, Israel. Recd—December 2, 2001. Est. Value—$300. Archives Foreign | His Excellency Ariel Sharon, Prime Minister of Israel | Non-acceptance would cause embarrassment to donor and U.S. Government.
President | Framed message: 19″ x 24″ message proclaiming the planting of 5000 trees in a park in Jerusalem to honor the victims of the September 11 attacks; in a painted wood frame with cream matting. Small plaque on frame engraved: “With appreciation for your leadership, courage, and determination in the face of evil.” Recd—December 3, 2001. Est. Value—$69. Archives Foreign | His Excellency Ariel Sharon, Prime Minister of Israel | Non-acceptance would cause embarrassment to donor and U.S. Government.
| Circular engraved sterling and gold representation of Jerusalem; small plaque on stand reads: “Presented to The Honorable George W. Bush, President of the United States of America, In Friendship December 2001, Ariel Sharon, Prime Minister of the State of Israel.” Recd—December 3, 2001. Est. Value—$500. Archives Foreign
President | Staff: 48″ wooden rod bound in silver, inset with multi-colored glass stones; 6 hanging charms near the top. Recd—December 6, 2001. Est. Value—$300. Archives Foreign | His Excellency Jorge Fernando Quiroga Ramirez, President of the Republic of Bolivia | Non-acceptance would cause embarrassment to donor and U.S. Government.
President | Hardcover coffee table book: “Casas de los Cabos.” Recd—December 7, 2001. Est. Value—$50. Archives Foreign | His Excellency Vicente Fox Quesada, President of the United Mexican States | Non-acceptance would cause embarrassment to donor and U.S. Government.
| Decorative silver bowl (4″ x 4″d) with a small bird on the lip. Recd—December 7, 2001. Est. Value—$250. Archives Foreign
President | Lamp: 27″ lamp with a jade base carved in the shape of an elephant, with a 14″ green silk shade. Recd—December 14, 2001. Est. Value—$800. Archives Foreign | His Excellency Sakthip Krairiksh, Ambassador of the Kingdom of Thailand | Non-acceptance would cause embarrassment to donor and U.S. Government.
President | Books: boxed set of nine volumes on the “Kings of the Royal House of Chakri.” Recd—December 14, 2001. Est. Value—$350. Archives Foreign | His Excellency Thaksin Shinawatra, Prime Minister of the Kingdom of Thailand | Non-acceptance would cause embarrassment to donor and U.S. Government.
| Stationery: 2 sets of paper and envelopes, with a gold tone letter opener; held in a polished burlwood box with the seal of the Royal Thai Government on the lid. Recd—December 14, 2001. Est. Value—$60. Archives Foreign |  |
| Travel desk: 13½″ x 17½″ black leather-topped lap desk with polished burlwood trim. Recd—December 14, 2001. Est. Value—$250. Archives Foreign |  |
President | Colored photographs (19): pictures of the Presidential visit to China; off-white matting with gold edges (9.5″ x 13″). Recd—December 19, 2001. Est. Value—$333. Archives Foreign | His Excellency Tang Jiaxuan, Minister of Foreign Affairs of the People's Republic of China | Non-acceptance would cause embarrassment to donor and U.S. Government.
President | Decorative silver stand (6½″) with a marble base; indigenous Kazakhstan animals adorn the stand; held in a green leather presentation case. Recd—December 21, 2001. Est. Value—$5697. Archives Foreign | His Excellency Nursultan Nazarbayev, President of the Republic of Kazakhstan | Non-acceptance would cause embarrassment to donor and U.S. Government.
| Silver medallion (2″ diameter): engraved with “President of Republic of Kazakhstan” with outline and signature of President Nazarbayev. Recd—December 21, 2001. Est. Value—$40. Archives Foreign |  |
President | Saddle: black with ornate trimming. Recd—December 21, 2001. Est. Value—$7500. Archives Foreign | His Excellency Nursultan Nazarbayev, President of the Republic of Kazakhstan | Non-acceptance would cause embarrassment to donor and U.S. Government.
President | Hardcover leather books (2 copies): “A Diary Between Friends,” by Alliance Atlantis Communications, Inc. (English and French versions), in sleeves. Recd—December 27, 2001. Est. Value—$500. Archives Foreign | The Right Honorable Jean Chretien, P.C., M.P., Prime Minister of Canada | Non-acceptance would cause embarrassment to donor and U.S. Governemnt.
President | Branched dates (approximately 30 pounds). Recd—December 31, 2001. Est. Value—$180. Handled pursuant to Secret Service policy | His Excellency Zine El-Abidine Ben Ali, President of the Republic of Tunisia | Non-acceptance would cause embarrassment to donor and U.S. Government.
| Purple leather chest (16″ x 18″ x 24″): Bombay vault style with mirror-lined lid; one false drawer, two half drawers, and one full drawer, all leather covered and lined. Recd—December 31, 2001. Est. Value—$700. Archives Foreign |  |
| Olive oil (8 liters). Recd—December 31, 2001. Est. Value—$28. Handled pursuant to Secret Service policy
| Bottles of wine (6): “Les Vignes de Tanit (2 Rose, 2 Blanc, 2 Rouge),” made in Tunisia. Recd—December 31, 2001. Est. Value—$48. Handled pursuant to Secret Service policy |  |
President | Chinese classical novels (4 chests, 38 volumes total): “Dream of Red Mansions,” “The Romance of Three Kingdoms,” “Outlaws of the Marsh,” and “Journey to the West,” printed on fine kozo (rice) style paper with silk covering; made into calligraphic version by Shen Hongsheng for APEC China 2001 meeting. Recd—December 31, 2001. Est. Value—$3000. Archives Foreign | The Honorable Chen Liangyu, Acting Mayor, Municipal People's Government of Shanghai | Non-acceptance would cause embarrassment to donor and U.S. Government.
President | Oil painting (22″ x 26″): green palm tree with donkey, chair, and multi-colored beach balls; presented in gold frame. Recd—December 31, 2001. Est. Value—$500. Archives Foreign | His Excellency Hipolito Mejia, President of the Dominican Republic | Non-acceptance would cause embarrassment to donor and U.S. Government.
First Lady | Dish: 7″ silver-plated copper with pedestal base and engraved with a killer whale in the center; created by artist Harold Alfred, a member of the Kwakiutl tribe. Recd—February 5, 2001. Est. Value—$500. Archives Foreign | Mrs. Aline Chretien, Office of the Prime Minister of Canada | Non-acceptance would cause embarrassment to donor and U.S. Government.
First Lady | “Concord” gym bag with eight baseball hats with “Concord” symbol, and four pairs of women's running shoes. Recd—February 15, 2001. Est. Value—$375. Archives Foreign | The Honorable Eduardo Ezequiel Arroyo Roldan, Mayor of San Francisco Del Rincon, Guanajuato | Non-acceptance would cause embarrassment to donor and U.S. Government.
| White straw cowboy hat by the Arlop Hat Company. Recd—February 15, 2001. Est. Value—$150. Archives Foreign |  |
First Lady | Books: “My Love, My Country,” and “Praying for Tomorrow: Letters to My Husband in Prison,” both by Lee Hee-ho, and “Prison Writings,” by Kim Daejung. Recd—March 7, 2001. Est. Value—$99. Archives Foreign | Mrs. Lee Hee-ho, First Lady of the Republic of Korea | Non-acceptance would cause embarrassment to donor and U.S. Government.
| Hwagak jewelry box, tiger patterned, 7″ x 4″ x 3″, specially made by J.M. Lee. Recd—March 7, 2001. Est. Value—$396. Archives Foreign.
First Lady | Silver necklace with bird and heart design in a small green jewelry box with gold trim. Recd—March 22, 2001. Est. Value—$110. Archives Foreign | His Excellency Vicente Fox Quesada, President of the United Mexican States | Non-acceptance would cause embarrassment to donor and U.S. Government.
| Boots; brown lizard skin with a star stitched in brown on both front and back. Recd—March 22, 2001. Est. Value—$450. Archives Foreign.
First Lady | Brooch: 22 karat gold and amber brooch from “Onnig of Cairo Egyptian Museum.” Recd—April 2, 2001. Est. Value—$850. Archives Foreign | Mrs. Suzanne Mubarak. | Non-acceptance would cause embarrassment to donor and U.S. Government.
First Lady | Large pine wood chest with crown latch and inlaid with design of crown; containing a wooden bath brush. Recd—April 12, 2001. Est. Value—$200. Archives Foreign | His Majesty King Abdullah II bin al Hussein of the Hashemite, Kingdom of Jordan | Non-acceptance would cause embarrassment to donor and U.S. Government.
| Collection of beauty products contained in chest: two packages of three bars each of soap (mineral, scrub, and black mud); three small burlap bags filled with Dead Sea salts; two bottles of Dead Sea bath salts; one natural sponge; one bees wax candle; one pottery jar filled with Dead Sea bath salts; and one pottery jar filled with Dead Sea mud. Recd—April 12, 2001. Est. Value—$200. Handled pursuant to Secret Service policy
First Lady | Large red shawl with black suede design representing “The Sky Woman and the Great Tree of Life,” designed by Tammy Beauvais. Recd—April 20, 2001. Est. Value—$300. Archives Foreign | Mrs. Aline Chretien, Office of the Prime Minister of Canada | Non-acceptance would cause embarrassment to donor and U.S. Government.
First Lady | Embroidered table runner: 15″ x 42″ with a Macedonian design. Recd—May 3, 2001. Est. Value—$75. Archives Foreign | Mrs. Vilma Trajkovska, Office of the President of Macedonia | Non-acceptance would cause embarrassment to donor and U.S. Government.
| Embroidered tea cloth: 45″ x 42″ with a Macedonian design. Recd—May 3, 2001. Est. Value—$150. Archives Foreign
| Embroidered table runner: 16″ x 44″ with a Macedonian design. Recd—May 3, 2001. Est. Value—$75. Archives Foreign
First Lady | Book: 3¼″ x 2¼″ leatherbound pictorial catechism and hardcover “Catecismo de Fray Pedro de Gante.” Recd—June 12, 2001. Est. Value—$800. Archives Foreign | His Excellency Jose Maria Aznar, President of the Government of Spain and Mrs. Aznar | Non-acceptance would cause embarrassment to donor and U.S. Government.
First Lady | Hardback book: “Libro de Horas del Viaje de Carlos V Para Ser Coronado Emperador,” a Coleccion Carlos V. leather bound edition with gold-leaf pages; covers of the book are imprinted with coat of arms. Paperback translation also included. Recd—June 12, 2001. Est. Value—$1800. Archives Foreign | Her Majesty Sofia, Queen of Spain | Non-acceptance would cause embarrassment to donor and U.S. Government.
First Lady | Black linen apron stitched with “Laura Bush.” Recd—June 14, 2001. Est. Value—$30. Archives Foreign | His Excellency Goran Persson, Prime Minister of Sweden | Non-acceptance would cause embarrassment to donor and U.S. Government.
| Four double old fashioned size drinking glasses. Recd—June 14, 2001. Est. Value—$200. Archives Foreign
| Two ceramic coffee mugs with the European Union logo. Recd—June 14, 2001. Est. Value—$26. Archives Foreign
| Small umbrella with Swedish colors. Recd—June 14, 2001. Est. Value—$22. Archives Foreign
| CD produced by a local Swedish group. Recd—June 14, 2001. Est. Value—$15. Archives Foreign
| CD: “Best of Western Gotaland.” Recd—June 14, 2001. Est. Value—$15. Archives Foreign
| Pin with the European Union logo. Recd—June 14, 2001. Est. Value—$20. Archives Foreign
First Lady | Purse caramel color, “Kelly” style Ferragamo leather handbag. Recd—July 30, 2001. Est. Value—$625. Archives Foreign | His Excellency Carlo Azegio Ciampi, President of the Italian Republic | Non-acceptance would cause embarrassment to donor and U.S. Government.
| Hardback book: “II Palazzo Del Quirinale,” by Electa (Italian). Recd—July 30, 2001. Est. Value—$114. Archives Foreign
First Lady | Shirt: long-sleeve wool shirt with blue and green stripes. Recd—September 10, 2001. Est. Value—$150. Archives Foreign | The Honorable John Howard, Prime Minister of Australia | Non-acceptance would cause embarrassment to donor and U.S. Government.
First Lady | Evening bag made of silver, decorated with a leaf pattern. Recd—September 26, 2001. Est. Value—$750. Archives Foreign | Her Excellency Soekarnopoutri Megawati, President of the Republic of Indonesia | Non-acceptance would cause embarrassment to donor and U.S. Government.
First Lady | Painting: 19″ × 29″ oil painting of a woman holding a bowl, in a gift-painted wooden frame. Recd—October 9, 2001. Est. Value—$1400. Archives Foreign | His Excellency Eduard Shevardnadze, President of Georgia | Non-acceptance would cause embarrassment to donor and U.S. Government.
First Lady | Place card holders (18): silver, six each in shape of a native house, water buffalo, and out-rigger boat. Recd—October 24, 2001. Est. Value—$450. Archives Foreign | Her Excellency Gloria Macapagal-Arroyo, President of the Republic of the Philippines and Mr. Jose Miguel Arroyo | Non-acceptance would cause embarrassment to donor and U.S. Government.
First Lady | Vase: handpainted clear glass vase with stopper and rosewood display stand; vase is painted with scene of several Chinese women in traditional dress. Recd—October 24, 2001. Est. Value—$1500. Archives Foreign | His Excellency Jiang Zemin, President of the People's Republic of China | Non-acceptance would cause embarrassment to donor and U.S. Government.
First Lady | Necklace: gold chain with opal pendant and two diamond studs. Recd—October 30, 2001. Est. Value—$1000. Archives Foreign | The Honorable John Howard, Prime Minister of Australia | Non-acceptance would cause embarrassment to donor and U.S. Government.
First Lady | Robe: white linen and lace caftan embroidered with stars; held in a brown leather case. Recd—November 8, 2001. Est. Value—$425. Archives Foreign | His Excellency Abedelaziz Bouteflika, President of the People's Democratic Republic of Algeria | Non-acceptance would cause embarrassment to donor and U.S. Government.
First Lady | Jewelry: matching silver brooch, necklace and cuff bracelet with yellow, blue, and green enamel, studded with pieces of coral; held in a blue silk-lined silver box with coral. Recd—November 8, 2001. Est. Value—$500. Archives Foreign | His Excellency Abdelaziz Bouteflika, President of the People's Deocratic Republic of Algeria | Non-acceptance would cause embarrassment to donor and U.S. Government.
First Lady | Brooch: yellow mother of pearl in the shape of two flowers, set in 18K gold with tsavorite and pink tourmaline stones. Recd—November 21, 2001. Est. Value—$450. Archives Foreign | Her Excellency Gloria Macapagal-Arroyo, President of the Republic of the Philippines and Mr. Jose Miguel Arroyo | Non-acceptance would cause embarrassment to donor and U.S. Government.
First Lady | Table linens: one cream tablecloth with grey embroidery and 12 grey napkins with white border, all by Valentino. Recd—November 21, 2001. Est. Value—$434. Archives Foreign | His Excellency Vladimir Putin, President of the Russian Federation | Non-acceptance would cause embarrassment to donor and U.S. Government.
| Tea and coffee service: handpainted white and blue floral Gzhel coffee and tea pots, serving tray, six cups and saucers, and a creamer and sugar bowl. Recd—November 21, 2001. Est. Value—$589. Archives Foreign
First Lady | Tablecloth (60″ x 120″) and napkins (12): white cotton embroidered with multi-colored butterflies. Recd—November 27, 2001. Est. Value—$557. Archives Foreign | His Excellency Didier Ratsiraka, President of the Republic of Madagascar | Non-acceptance would cause embarrassment to donor and U.S. Government.
| Table shawl (24″ x 82″): cream and cream design with fringe. Recd—November 27, 2001. Est. Value—$80. Archives Foreign
| Petrified wood pieces (2, 4″ x 4″ x 5″): presented in straw-colored, heart-shaped containers; 2 wooden stands included. Recd—November 27, 2001. Est. Value—$100. Archives Foreign
First Lady | Porcelain figure (13″): handcrafted Spanish doll, “Menina”, in blue and white ballgown. Recd—November 28, 2001. Est. Value—$125. Archives Foreign | His Excellency Jose Maria Aznar, President of the Government of Spain | Non-acceptance would cause embarrassment to donor and U.S. Government.
First Lady | Necklace: ornate silver with silver charms, oval-shaped coral pieces and silver bow as centerpiece. Earrings (2.5″): silver with small charms attached. Bracklet: silver with small red stone in center. Large silver ring. Pins: miniature sabershaped pins (one gold, one silver, each 2″ x 5″). Recd—December 3, 2001. Est. Value—$1500. Archives Foreign | His Excellency Ali Abdullah Saleh, President of the Public of Yemen | Non-acceptance would cause embarrassment to donor and U.S. Government.
First Lady | Purple fabric (39″ x 174″ “floating weft brocade” in raw silk. Recd—Decenber 14, 2001. Est. Value—$1200. Archives Foreign | His Excellency Thaksin Shinawatra, Prime Minister of the Kingdom of Thailand | Non-acceptance would cause embarrassment to donor and U.S. Government.
First Lady | Necklace: gold with bi-color amethyst. Recd—December 18, 2001. Est. Value—$200. Archives Foreign | Mrs. Virginia Gillum de Quiroga, First Lady of the Republic of Bolivia | Non-acceptance would cause embarrassment to donor and U.S. Government.
| Hand-woven cloth (35″ x 43″): brown with geometric designs in white, yellow and pink. Recd—December 18, 2001. Est. Value—$375. Archives Foreign
| Hand-woven Charazani belt (3″ x 41″): brown with animal designs and topo clasp (9″) of ornate metal. Recd—December 18, 2001. Est. Value—$135. Archives Foreign
First Lady | Bracelet: gold bracelet decorated with two horse heads, diamonds and turquoise; held in a green leather presentation box. Recd—December 21, 2001. Est. Value—$2664. Archives Foreign | His Excellency Nursultan Nazarbayev, President of the Republic of Kazakhstan | Non-acceptance would cause embrassment to donor and U.S. Government.
First Family | Chalices (2): coral marble with attached gold handles (7″ x 4¾″ x 4″). Recd—March 29, 2001. Est. Value—$400. Archives Foreign | His Majesty Juan Carlos I, King of Spain | Non-acceptance would cause embarrassment to donor and U.S. Government.
| Frame (15″ x 12″): silver with signed photograph of the King and Queen of Spain; enclosed in a leather box. Recd—March 29, 2001. Est. Value—$225. Archives Foreign
First Family | Bag: canvas tote printed with a crest and “Lansstyrelsen Vastra Gotaland www.o.1st.se.” Recd—June 14, 2001. Est. Value—$15. Archives Foreign | The Honorable and Mrs. Gote Bernhardsson, Governor of Goteborg | Non-acceptance would case embarrassment to donor and U.S. Government.
| Fabric: 64″ x 100″ beige and tan fabric. Recd—June 14, 2001. Est. Value—$300. Archives Foreign
| Hardcover book: “Design from Western Sweden,” by Flke Edwwards, Gunilla Grahn-Hinnfors, Torsten Hild, Ingrid Sommer, Anders Westgardh. Recd—June 14, 2001. Est. Value—$30. Archives Foreign
| Hardcover book: “Goteborg och dess historia,” by Gunnar Bohlin. Recd—June 14, 2001. Est. Value—$25. Archives Foreign
| Hardcover book: “Cuisine from Sweden's West at its Best,” published by Nordbok International AB. Recd—June 14, 2001. Est. Value—$30. Archives Foreign
First Family | Porcelain: “Noble Lady at Leisure” ceramic sculpture (13″) of a woman dressed in a traditional Chinese robe glazed with bright blue and orange colors. Black wood stand included (11″x 9″ x 1½″). Recd—July 16, 2001. Est. Value—$1450. Archives Foreign | The Honorable Tung Chee Hwa, Chief Executive of the Hong Kong Special Administrative Region Office of the Chief Executive | Non-acceptance would cause embarrassment to donor and U.S. Government.
First Family | Frame (8½″ x 12″): silver, engraved with the Royal crest; displaying a matted and signed photograph of the Queen. Recd—July 19, 2001. Est. Value—$350. Archives Foreign | Her Majesty Queen Elizabeth II. | Non-acceptance would cause embarrassment to donor and U.S. Government.
First Family | Bags (2): Gilli mustard-colored ostrich leather travel bag, and black and white leather envelope-style handbag. Recd—July 20, 2001. Est. Value—$3300. Archives Foreign | His Excellency, Silvio Berlusconi, President of the Council of Ministers of the Italian Republic | Non-acceptance would cause embarrassment to donor and U.S. Government.
First Family | Pitcher 11″ cut glass Gorham pitcher with cylindrical body and sterling silver rim decorated with leaves and engraved with “RCW” monogram. Recd—July 27, 2001. Est. Value—$550. Archives Foreign | His Excellency Silvio Berlusconi, President of the Council of Ministers of the Italian Republic | Non-acceptance would cause embarrassment to donor and U.S. Government.
First Family | Fragment of Imperial Porphyry (purple stone) in burgundy leather box. Recd—July 30, 2001. Est. Value—$125. Archives Foreign | His Excellency Carlo Azeglio Ciampi, President of the Italian Republic | Non-acceptance would cause embarrassment to donor and U.S. Government.
| Scarf: 33″ silk scarf based on tapestry that hangs in President Ciampi's office. Recd—July 30, 2001. Est. Value—$80. Archives Foreign
First Family | Medals (3): the Pontiff on one side, Jesus on reverse (gold, silver and bronze); held in white leather case with crest of the Vatican. Recd—July 30, 2001. Est. Value—$1875. Archives Foreign | His Holiness John Paul II. | Non-acceptance would cause embarrassment to donor and U.S. Government.
First Family | Pitchers: pair of antique crystal pitchers with silver detail. Recd—October 16, 2001. Est. Value—$1500. Archives Foreign | His Excellency Silvio Berlusconi, President of the Council of Ministers of the Italian Republic | Non-acceptance would cause embarrassment to donor and U.S. Government.
First Family | Silver tray with engraved flowers around edges (9.5″ x 12.5″). Recd—December 31, 2001. Est. Value—$350. Archives Foreign | His Excellency Lalit Mansingh, Ambassador of India | Non-acceptance would cause embarrassment to donor and U.S. Government.
First Daughter Barbara Bush | Necklace: seven strands of coral beads clasped at two points with silver balls and large silver piece in center with five charms attached (13″ x 13″ x 13″); and miniature saber-shaped pin (3.5″ x 3.5″). Recd—December 3, 2001. Est. Value—$750. Archives Foreign | His Excellency Ali Abdullah Saleh, President of the Republic of Yemen | Non-acceptance would cause embarrassment to donor and U.S. Government.
First Daughter Jenna Bush | Necklace: seven strands of coral beads clasped at two points with silver balls and large silver piece in center with five charms attached (13″ x 13″ x 3″); and miniature saber-shaped pin (3.5″ x 3.5″). Recd—December 3, 2001. Est. Value—$750. Archives Foreign | His Excellency Ali Abdullah Saleh, President of the Republic of Yemen | Non-acceptance would cause embarrassment to donor and U.S. Government.
Bradtke, Robert A. Executive Secretary, NSC | Vase: pale green glazed vase with one large white peony and one pink peony (approximately 10″ x 30″). Recd—July 19, 2001. Est. Value—$400. Archives, Staff Gift | His Excellency Junichiro Koizumi, Prime Minister of Japan | Non-acceptance would cause embarrassment to donor and U.S. Government.
Card, Andrew H., Jr., Assistant to the President and Chief of Staff | Vase: large pottery vase (11″ x 34″) with a flock of white cranes flying on a background of gold colored paint with mountains in the background in gray over a clay colored surface. Recd—April 16, 2001. Est. Value—$650. Archives, Staff Gift | His Excellency Shunji Yanai, Ambassador of Japan | Non-acceptance would cause embarrassment to donor and U.S. Government.
Card, Andrew H., Jr., Assistant to the President and Chief of Staff | Decorative Plate: “Fukagawa Porcelain” (approximately 10″ diameter) with two cranes and blue and gold trim. Black lacquer display stand included. Recd—July 27, 2001. Est. Value—$350. Archives, Staff Gift | His Excellency Junichiro Koizumi, Prime Minister of Japan | Non-acceptance would cause embarrassment to donor and U.S. Government.
Card, Andrew H., Jr., Assistant to the President and Chief of Staff | Candle holder: “Frazer and Haws of London” sterling silver candle holder on a wooden base (approximately 11″ x 3½″), presented in a red velvet box embossed with the seal of the Prime Minister of India. Recd—November 27, 2001. Est. Value—$500. Archives, Staff Gift | His Excellency Atal Bihari Vajpayee, Prime Minister of the Republic of India | Non-acceptance would cause embarrassment to donor and U.S. Government.
Edson, Gary R. Deputy Assistant to the President for International Economic Affairs & Deputy National Security Advisor | Vase: 15″ x 4″ dark blue with large white peonies and touch of gold. Recd—July 20, 2001. Est. Value—$750. Archives, Staff Gift | His Excellency Junichiro Koizumi, Prime Minister of Japan | Non-acceptance would cause embarrassment to donor and U.S. Government.
Fenton, Cathy, Special Assistant to the President & White House Social Secretary | Picture frame: 5″ x 6″ Mikimoto frame for a 4″ x 3½″ photo, decorated on each corner with a small pearl and gold colored decorative painting. Recd—May 31, 2001. Est. Value—$350. Return to sender | Mrs. Toshiko Yanai, Embassy of Japan | Non-acceptance would cause embarrassment to donor and U.S. Government.
Frazer, Jendayi, Special Assistant to the President & Senior Director, NSC African Affairs | Seat cushion covers: three dark green leather seat cushion covers approximately 29″ in diameter with gold designs. Recd—June 27, 2001. Est. Value—$600. Archives, Staff Gift | The Honorable Ahmed Mohammed Makarfi, Governor of Kaduna, Federal Republic of Nigeria | Non-acceptance would cause embarrassment to donor and U.S. Government.
Gonzales, Alberto R., Counsel to the President | Vase: 15″ x 4″ dark blue with peonies and touch of gold. Recd—July 20, 2001. Est. Value—$750. Archives, Staff Gift | His Excellency Shunji Yanai, Ambassador of Japan | Non-acceptance would cause embarrassment to donor and U.S. Government.
Hadley, Stephen, Assistant to the President & Deputy National Security Advisor | Vase: pale green glazed vase with one white and one pink peony (approximately 10″ x 30″). Recd—May 4, 2001. Est. Value—$400. Archives, Staff Gift | His Excellency Yoshiro Mori, Prime Minister of Japan | Non-acceptance would cause embarrassment to donor and U.S. Government.
Hadley, Stephen, Assistant to the President & Deputy National Security Advisor | Silver box: 7½″ x 5″ silver box with green velvet bottom and interior. Recd—September 6, 2001. Est. Value—$500. Archives, Staff Gift | Lieutenant General Mahmud Ahmed, Director General, Inter-Services Intelligence Directorate | Non-acceptance would cause embarrassment to donor and U.S. Government.
Lindsey, Larry, Assistant to the President for Economic Policy & Director, National Economic Council | Vase, large potter vase (11″ x 34″) with a flock of white cranes flying over a gold colored painted background with mountains in the background painted in gray over a clay colored surface. Recd—April 26, 2001. Est. Value—$650. Archives, Staff Gift | His Excellency Shunji Yanai, Ambassador of Japan | Non-acceptance would cause embarrassment to donor and U.S. Government.
Lindsey, Larry, Assistant to the President for Economic Policy & Director, National Economic Council | Decorative plate: “Fukagawa Porcelain” decorative plate (approximately 10″ diameter) with two cranes and blue and gold trim. Black lacquer display stand included Recd—July 16, 2001. Est. Value—$350. Archives, Staff Gift | His Execellency Junichiro Koizumi, Prime Minister of Japan | Non-acceptance would cause embarrassment to donor and U.S. Government.
Patterson, Torkel, Special Assistant to the President & Senior Director, NSC Asian Affairs | Scarf: black “Chateau Robert” pashmina with silk. Recd—February 13, 2001. Est. Value—$280. Government Property | Mr. Ray Yang, Director, Western Region NSB, Taipei Economic & Culture Representative Office (TECRO) | Non-acceptance would cause embarrassment to donor and U.S. Government.
Patterson, Torkel, Special Assistant to the President & Senior Director, NSC Asian Affairs | Vase: pale green glazed vase with one white and one pink peony in a ginger jar shape, approximately 10″ x 30″. Recd—March 19, 2001. Est. Value—$400. Archives, Staff Gift | His Excellency Yoshiro Mori, Prime Minister of Japan | Non-acceptance would cause embarrassment to donor and U.S. Government.
Patterson, Torkel, Special Assistant to the President & Senior Director, NSC Asian Affairs | Decorative plate (10″ diameter): “Fukagawa Porcelain” decorative plate in blue with white cranes and gold edging. Black lacquer display stand included. Recd—August 20, 2001. Est. Value—$350. Archives, Staff Gift | His Excellency Junichiro Koizumi, Prime Minister of Japan | Non-acceptance would cause embarrassment to donor and U.S. Government.
Patterson, Torkel, Special Assistant to the President & Senior Director, NSC Asian Affairs | Artwork: Suzzani silk needlework on silk textile base; picture 24½″ x 32″) depicts a classical wooden bridge over a pond; held in a gold colored wooden frame. Recd—November 30, 2001. Est. Value—$600. Archives, Staff Gift | His Excellency Tam Chien Nguyen, Ambassador of Vietnam | Non-acceptance would cause embarrassment to donor and U.S. Government.
Rice, Condoleezza, Assistant to the President for National Security Affairs | Briefcase: burgundy leather. Recd—February 6, 2001 Est. Value—$300. Government Property | His Excellency Adalberto Rodriguez Giavarini, Minister of Foreign Relations, International Trade and Wordship of the Argentine Republic | Non-acceptance would cause embarrassment to donor and U.S. Government.
Rice, Condoleezza, Assistant to the President for National Security Affairs | Silver box: small, ornately designed silver trinket box with lid. Recd—May 1, 2001. Est. Value—$350. Archives, Staff Gift | His Excellency Ilir Meta, Prime Minister of the Republic of Albania | Non-acceptance would cause embarrassment to donor and U.S. Government.
Rice, Condoleezza, Assistant to the President for National Security Affairs | Framed 24″ x 28″ acrylic painting of mountains with green pine trees, signed by “Leon.” Recd—May 4, 2001. Est. Value—$375. Archives, Staff Gift | His Excellency Yerlan Idrisov, Minister of Foreign Affairs of the Republic of Kazakhstan | Non-acceptance would cause embarrassment to donor and U.S. Government.
Rice, Condoleezza, Assistant to the President for National Security Affairs | Vase: large pottery vase (11″ x 34″) with a flock of white cranes flying over a gold colored background with grey mountains in the background over a clay colored surface. Recd—May 4, 2001. Est. Value—$650. Archives, Staff Gift | His Excellency Yoshiro Mori, Prime Minister of Japan | Non-acceptance would cause embarrassment to donor and U.S. Government.
Rice, Condoleezza, Assistant to the President for National Security Affairs | Compote: small ornate silver compote (“ilias LaLaoUNIS” brand name). Recd—May 21, 2001. Est. Value—$300. Archives, Staff Gift | His Excellency George Papandreou, Minister of Foreign Affairs of the Hellenic Republic | Non-acceptance would cause embarrassment to donor and U.S. Government.
Rice, Condoleezza, Assistant to the President for National Security Affairs | Silver incense burner with long, curved handle; presented in a large red leather case with satin lining. Recd—June 21, 2001. Est. Value—$450. Archives, Staff Gift | His Excellency Yusuf bin Alawi bin Abdullah, Minister Responsible for Foreign Affairs of the Sultanate of Oman | Non-acceptance would cause embarrassment to donor and U.S. Government.
Rice, Condoleezza, Assistant to the President for National Security Affairs | Silver container (4½ x 18″): decorative silver beads and bands covering surface with an occasional coral bead. Recd—July 12, 2001. Est. Value—$750. Archives, Staff Gift | His Excellency Abdelaziz Bouteflika, President of the People's Democratic Republic of Algeria | Non-acceptance would cause embarrassment to donor and U.S. Government.
Rice, Condoleezza, Assistant to the President for National Security Affairs | Porcelain vase (13″): navy blue and gold, with blue raised applied flowers. Recd—July 25, 2001. Est. Value—$350. Archives, Staff Gift | Mr. Vladimir B. Rushaylo, Secretary of Russian Security Council | Non-acceptance would cause embarrassment to donor and U.S. Government.
Rice, Condoleezza, Assistant to the President for National Security Affairs | Decorative plate: “Fukagawa Porcelain” decorative plate (approximately 10″ diameter) with two cranes and blue and gold trim. Black lacquer display stand included. Recd—July 27, 2001. Est. Value—$350. Archives, Staff Gift | His Excellency Junichiro Koizumi. Prime Minister of Japan | Non-acceptance would cause embarrassment to donor and U.S. Government.
Rice, Condoleezza, Assistant to the President for National Security Affairs | Vessel: sterling silver vessel “PYXIS” Design inspired by a Minoan compass (1400 B.C.). Made by ilias LALAoUNIS. Recd—October 5, 2001. Est. Value—$350. Archives, Staff Gift | His Excellency George Papandreou, Minister of Foreign Affairs of the Hellenic Republic | Non-acceptance would cause embarrassment to donor and U.S. Government.
Rice, Condoleezza, Assistant to the President for National Security Affairs | Gold coins: four 22k gold coins in a black leather case. Recd—November 7, 2001. Est. Value—$800. Archives, Staff Gift | His Excellency Shaykh Sabah al-Ahmad al-Jabir Al Sabah, First Deputy Prime Minister and Minister of Foreign Affairs of the State of Kuwait | Non-acceptance would cause embarrassment to donor and U.S. Government.
Rove, Karl, Senior Advisor to the President | Vase: pale green glazed vase with one white and one pink peony in a ginger jar shape (approximately 10″ x 30″). Recd—April 30, 2001, Est. Value—$400. Archives, Staff Gift | His Excellency Yoshiro Mori, Prime Minister of Japan | Non-acceptance would cause embarrassment to donor and U.S. Government.
Spellings, Margaret, Assistant to the President for Domestic Policy | Vase: 15″ x 4″ dark blue vase with peonies and a touch of gold. Recd—July 20, 2001. Est. Value—$750. Archives, Staff Gift | His Excellency Shunji Yanai, Ambassador of Japan | Non-acceptance would cause embarrassment to donor and U.S. Government.
Tighe, Mary, Director, NSC Asian Affairs | Vase: white glazed vase with blue mountains, approximately 10″ x 24″, Recd—March 19, 2001. Est. Value—$400. Archives, Staff Gift | His Excellency Yoshiro Mori, Prime Minister of Japan | Non-acceptance would cause embarrassment to donor and U.S. Government.
Walters, Logan M., Presidential Aide | Ties (2): one “Battistoni” dark blue silk with small ships, and one E. Marinella silk tie from Naples with dark blue and gold dots and small logo. Recd—August 6, 2001. Est. Value—$260. Government Property | Genoa G8 Summit 2001 | Non-acceptance would cause embarrassment to donor and U.S. Government.
| Hardcover books: “The Museums of Genoa Welcome the G8”; “Liguria The World in One Region”; “A Window Over the Mediterranean Sea”. Recd—August 6, 2001. Est. Value—Not Applicable. Government Property.
| Paperback books (4): “Omaggio al G8 La Maniera Italiana”; The G7/G8 from Rambouillet to Genoa”; “Liguria terra di poesia”; “The Delegate's Handbook”. Recd—August 6, 2001. Est. Value—Not Applicable. Government Property
| CD and DVD: promotional CD and DVD of “Genova”. Recd—August 6, 2001. Est. Value—Not applicable. Government Property
| Travel case: nylon navy blue travel case with zippered compartments and stitched “G8 2001” with Genoa logo, Recd—August 6, 2001. Ext. Value—$50. Government Property
| Miscellaneous items given in gift pack: seven postcards; magazine; ¾″ dark blue enamel pin with white flag and red cross; one pack of “G8 2001” stationery and blue ballpoint pen; and one pack of travel brochures. Recd—August 6, 2001. Ext. Value—Not Applicable. Government Property

ENTITY: Office of the Vice President
[Report of Tangible Gifts]
Name and title of person accepting the gift on behalf of the U.S. Government | Gift, date of acceptance on behalf of the U.S. Government, estimated value, and current disposition or location | Identity of foreign donor and government | Circumstances justifying acceptance
148/QC, Vice President | Octagonal porcelain dish by Villa Allegre, reproduction of Chinese porcelain, depicting two birds in a landscape with trees. Recd—February 28, 2001. Est. Value—$275. Archives Foreign | His Excellency Jamie Gama, Minister of State and Foreign Affairs of Portugal | Non-acceptance would cause embarrassment to donor and U.S. Government.
155/QC, Vice President | Four Floral “Get-Well” Bouquets that included roses, French tulips, lilacs, and orchids in crystal vases. Recd—March 10, 2001. Est. Value—$1950. Handled pursuant to Secret Service policy | His Majesty King Fahd Bin Abdulaziz; His Highness Prince Abdullah Bin Abdulaziz; Prince Sultan Bin Abdulaziz; Prince Bandar Bin Sultan Bin Abdulaziz, Royal Kingdom of Saudi Arabia | Non-acceptance would cause embarrassment to donor and U.S. Government.
281/QC, Vice President | Small ancient glass vessel from Hebrew archaeological site (50 B.C.) mounted on ornamental silver tripod. Encased in lucite, with inscription to the Vice President. 4″x5″. Recd—March 19, 2001. Est. Value—$290. Archives Foreign | His Excellency Ariel Sharon, Prime Minister of Israel | Non-acceptance would cause embarrassment to donor and U.S. Government.
113037/BOYER_C, Vice President | Large round Kutani earthenware vase, painted with flying cranes and gold foil decoration. Recd—April 4, 2001. Est. Value—$600. Archives Foreign | His Excellency Yoshiro Mori, Former Prime Minister of Japan | Non-acceptance would cause embarrassment to donor and U.S. Government.
111297/BOYER_C, Vice President | Odalisque Dead Sea Products: assorted toiletries for men and women, including shampoo, soap, and bath salts. Recd—April 16, 2001. Est. Value—$302. Handled pursuant to Secret Service policy | His Majesty Abdullah II bin al Hussein, of the Hashemite Kingdom of Jordan | Non-acceptance would cause embarrassment to donor and U.S. Government.
113382/BOYER_C, Vice President | Desk set featuring a lump of gold ore from the Mahd Ad-Dahb gold mine and a Baccarat crystal decanter containing Arabian extra-light crude oil; measures 8″x5″x10″ on a black acrylic base. Recd—May 1, 2001. Est. Value—$1000. Archives Foreign | His Excellency Ali I. Al-Naimi, Minister of Petroleum and Mineral Resources of the Royal Kingdom of Saudi Arabia | Non-acceptance would cause embarrassment to donor and U.S. Government.
113381/BOYER_C, Vice President | Burled wood Boisseliers du Rif humidor, with inlaid wood framing a painting of the Mediterranean, measures 12″x9″. Recd—May 1, 2001. Est. Value—$350. Archives Foreign | His Excellency Rafiq al-Hariri, Prime Minister of the Republic of Lebanon | Non-acceptance would cause embarrassment to donor and U.S. Government.
107541/BOYER_C, Vice President | 750 gram copper modelia with silk screen of “King David” and “Entry in Jerusalem” by Marc Chagall. Recd—May 2, 2001. Est. Value—$291. Archives Foreign | His Excellency Moshe Katsav, President of Israel | Non-acceptance would cause embarrassment to donor and U.S. Government.
107539/BOYER_C, Vice President | Sterling silver filigree box, measures 4¼″x6½″ with small jaspar stone on lid. Recd—May 2, 2001. Est. Value—$400. Archives Foreign | His Excellency Ilir Meta, Prime Minister of Albania | Non-acceptance would cause embarrassment to donor and U.S. Government.
111331/BOYER_C, Vice President | Engraved silver octagonal box, lined in blue velvet. Measures 7″ in width. Recd—May 2, 2001. Est. Value—$1400. Archives Foreign | His Excellency Mohamed Hosny Mubarak, President of the Arab Republic of Egypt | Non-acceptance would cause embarrassment to donor and U.S. Government.
107467/BOYER_C, Vice President | Sterling silver vessel, design inspired from the Minoan Period (1480 BC). Recd—May 22, 2001. Est. Value—$300. Archives Foreign | His Excellency George A. Papandreou, Minister of Foreign Affairs of the Hellenic Republic | Non-acceptance would cause embarrassment to donor and U.S. Government.
113034/BOYER_C, Vice President | Charles Silver Clock mounted with two large Baccarat crystal horse heads on brass base with simulated lapis decorations. Recd—June 1, 2001. Est. Value—$2500. Archives Foreign | His Excellency Ali I. Al-Naimi, Minister of Petroleum and Mineral Resources, Royal Kingdom of Saudi Arabia | Non-acceptance would cause embarrassment to donor and U.S. Government.
108033/BOYER_C, Vice President | Sterling Silver 9″ round tray and 10″ tall incense container with cut work and reposé hinged ball on top. Recd—June 18, 2001. Est. Value—$750. Archives Foreign | His Excellency Yusef Bin Alawi, Foreign Minister of Oman | Non-acceptance would cause embarrassment to donor and U.S. Government.
108034/BOYER_C, Vice President | Large black lacquer box, with mother of pearl inlays in seascape design. Recd—June 22, 2001. Est. Value—$350. Archives Foreign | His Excellency Kim Dong Shin, ROK Defense Minister | Non-acceptance would cause embarrassment to donor and U.S. Government.
| Black baseball bat signed by Juan Gonzalez of the Texas Rangers. Recd—June 22, 2001. Est. Value—$55. Archives Foreign
107515/BOYER_C, Vice President | Flowers. Recd—July 10, 2001. Est. Value—$500. Handled pursuant to Secret Service policy | His Majesty, King Fahd Bin Abdulaziz, Royal Kingdom of Saudi Arabia | Non-acceptance would cause embarrassment to donor and U.S. Government.
107520/BOYER_C, Vice President | Flowers. Recd—July 10, 2001. Est. Value—$400. Handled pursuant to Secret Service policy | His Highness Crown Prince Abdullah Bin Abdulaziz, Royal Kingdom of Saudi Arabia | Non-acceptance would cause embarrassment to donor and U.S. Government.
112902/BOYER_C, Vice President | Poljot chronograph watch, 23 jewels, stopwatch and calendar features with crest of President Putin. In leather case with crest. Recd—July 20, 2001. Est. Value—$290. Archives Foreign | His Excellency Vladimir Putin, President of the Russian Federation | Non-acceptance would cause embarrassment to donor and U.S. Government.
109314/BOYER_C, Vice President | Fresh dates, 8.8 lbs ($44); Algerian wine, 12 bottles ($160); Camel saddle with bridle, red and gold saddle blanket, whip, lead, and wooden saddle stand ($1400). Consumables were handled pursuant to Secret Service policy. Recd—August 2, 2001. Est. Value—$1604. Archives Foreign | His Excellency Abdelaziz Bouteflika, President of Algeria | Non-acceptance would cause embarrassment to donor and U.S. Government.
110239/BOYER_C, Vice President | Silver repousé bowl with Indonesian crest, measures 10.5″ in diameter. Recd—September 17, 2001. Est. Value—$200. Archives Foreign | Her Excellency Megawati Soukarnopoutri, President of the Republic of Indonesia | Non-acceptance would cause embarrassment to donor and U.S. Government.
113035/BOYER_C, Vice President | Desktop decoration: large Sterling Silver sailboat, with gold vermeil sails. Measures 18″ x 18″ x 7″. Recd—October 1, 2001. Est. Value—$2500. Archives Foreign | His Highness Hamad Bin Khalifa Al-Thani, Amir of the State of Qatar | Non-acceptance would cause embarrassment to donor and U.S. Government.
112125/BOYER_C, Vice President | Ornate silver carafe, measures 12.5″ high by 11″ wide, plate on brass. Recd—October 15, 2001. Est. Value—$300. Archives Foreign | Sheikh Salman Bin Hamad Al-Khalifa, Crown Prince and Commander in Chief of Bahrain | Non-acceptance would cause embarrassment to donor and U.S. Government.
112122/BOYER_C, Vice President | Gold vermeil sailboat on black base, measures 13.5″ tall by 13.5″ wide. Recd—November 5, 2001. Est. Value—$1500. Archives Foreign | Sabah Al-Ahmad Al-Jabir, First Deputy Prime Minister of Foreign Affairs of Kuwait | Non-acceptance would cause embarrassment to donor and U.S. Government.
113300/MURRAY_M, Vice President | Silver sword with silver filigree handle inset with stones, and a silver filigree sheath, 24″ in length. Recd—November 27, 2001. Est. Value—$1000. Archives Foreign | His Excellency Ali Abdullah Saleh, President of the Republic of Yemen | Non-acceptance would cause embarrassment to donor and U.S. Government.
| Four cotton shawls or milfeh. Various colors with metallic thread and synthetic fibers. Size approximately 3″ x 6″. Recd—November 27, 2001. Est. Value—$400. Archives Foreign |
112945/BOYER_C, Vice President | Frazer and Haws 6″ tall artwork: silver god, Ganesh, atop a faceted crystal ball, balanced on a silver rat. Marble base. Recd—December 3, 2001. Est. Value—$500. Archives Foreign | His Excellency Atal Bihari Vajpayee, Prime Minister of the Republic of India | Non-acceptance would cause embarrassment to donor and U.S. Government.
113638/BOYER_C, Vice President | A 600 Baht and a 30 Baht coin celebrating the Golden Jubilee of King Rama IX's Reign and the 60th Birthday of Queen Sirikit. Recd—December 14, 2001. Est. Value—$20. Archives Foreign | His Excellency and Mrs. Thaksin Shinawatra, Prime Minister of Thailand | Non-acceptance would cause embarrassment to donor and U.S. Government.
113639/BOYER_C, Vice President | Sterling silver salver, 8″ in diameter, from Spink & Son, London. Recd—December 21, 2001. Est. Value—$2166. Archives Foreign | His Excellency Nursultan Nazarbayev, President of the Republic of Kazakhstan | Non-acceptance would cause embarrassment to donor and U.S. Government.
113037/BOYER_C, Mrs. Cheney | Black and gold lacquer five-drawer jewelry box. Recd—April 4, 2001. Est. Value—$150. Archives Foreign | His Excellency Yoshiro Mori, Former Prime Minister of Japan | Non-acceptance would cause embarrassment to donor and U.S. Government.
111314/BOYER_C, Mrs. Cheney | Gold pin (18 carat) showing ancient Egyptian in boat; gift to Mrs. Cheney from Suzanne Mubarak. Recd—May 2, 2001, Est. Value—$450. Archives Foreign | His Excellency Mohamed Hosny Mubarak, President of the Arab Republic of Egypt | Non-acceptance would cause embarrassment to donor and U.S. Government.
110239/BOYER_C, Mrs. Cheney | Small pierced Sterling Silver evening purse, measures 5″ x 2.5,4″ with hinged lid and 44″ silver chain. Recd—September 17, 2001. Est. Value—$350. Archives Foreign | His Excellency Megawati Soukarnopoutri, President, Republic of Indonesia | Non-acceptance would cause embarrassment to donor and U.S. Government.
113300/MURRAY _M, Mrs. Cheney | Silver quill work necklace with semi-precious stones, 23″ long, bow motif 6″ joined to six hanging silver quill motifs and stones on each side; earrings 3″ long; ring 1½″ in diameter; bracelet, bow in center with red stone and quilled scrolls on each side, 1¼″ and 6½″ in diameter. Recd—November 27, 2001. Est. Value—$750. Archives Foreign | His Excellency Ali Abdulla Saleh, President of the Republic of Yemen | Non-acceptance would cause embarrassment to donor and U.S. Government.
113638/BOYER_C, Mrs. Cheney | Six yards purple Thai silk, with metallic thread, measures 198″ by 40″. Recd—December 14, 2001. Est. Value—$500 | His Excellency and Mrs. Thaksin Shinawatra, Prime Minister of Thailand | Non-acceptance would cause embarrassment to donor and U.S. Government.
112944/BOYER_C, Mrs. Cheney | Hand-embroiderred orange Pashmina shawl, measures 36″ by 80″. Recd—December 3, 2001. Est. Value—$410. Archives Foreign | His Excellency Atal Bihari Vajpayee, Prime Minister of the Republic of India | Non-acceptance would cause embarrassment to donor and U.S. Government.
113036/BOYER_C, Vice President and Mrs. Cheney | Large antique reproduction blue and white plum jar, modeled after 15th century jar from the Ho-Am Art Museum in Seoul, Korea. Recd—June 1, 2001. Est. Value—$350. Archives Foreign | His Excellency Kim Dae-jung, President of the Republic of Korea | Non-acceptance would cause embarrassment to donor and U.S. Government.
109314/BOYER_C, Vice President Staff | Red and black native wool rug approximately 6′6″ by 3′8″ presented to Lewis Libby. Recd—August 2, 2001. Est. Value—$600. Archives Foreign | His Excellency Abdelaziz Bouteflika, President of Algeria | Non-acceptance would cause embarrassment to donor and U.S. Government.
| Hand-painted tile work scene of Algerian seaport presented to Chris Bolan. Framed, Highly decorative. Measures 18″ x 24″. Framed in simulated wood, one inch frame. Recd—August 2, 2001. Est. Value—$500. Archives Foreign.

AGENCY: Department of State
[Report of Tangible Gifts]
Name and title of person accepting gift on behalf of the U.S. Government | Gift, date of acceptance on behalf of the U.S. Government, estimated value, and current disposition or location | Identity of foreign donor and government | Circumstances justifying acceptance
Colin Powell, Secretary of State | Diorama, 22″x14″, mother of pearl and abalone shell depicting “The Last Supper” and “The Nativity” in Bethlehem, also with numerals for the year 2000, Palestine, late 20th century, fitted red velvet case. Rec'd—January 25, 2001. Est. Value—$1,000.00. Pending transfer to GSA | His Excellency Yasser Arafat, Chairman, Palestine Liberation Organization | Non-acceptance would cause embarrassment to donor and U.S. Government.
Colin Powell, Secretary of State | Icon, 14″x12⅛″, polychrome wood with gold ground, Christ and Saints, Serbia, 18th/19th century. Rec'd—February 2, 2001. Est. Value—$1,000.00. Pending transfer to GSA | His Excellency Zoran Djindjic, Prime Minister, Republic of Serbia | Non-acceptance would cause embarrassment to donor and U.S. Government.
Colin Powell, Secretary of State | Vase, 7″ H, porcelain of globular form with tiny mouth and, incised celadon glaze, “diatreta” filigree outside the solid body composed of florets, Korea, late 20th century, wood box. Rec'd—February 7, 2001. Est. Value—$500.00. Pending transfer to GSA | His Excellency Lee Joung-binn, Minister of Foreign Affairs and Trade, Republic of Korea | Non-acceptance would cause embarrassment to donor and U.S. Government.
Colin Powell, Secretary of State | Coffee pot, 12½″ H, sterling silver with gilt interior, mounted with the Kuwaiti coat of arms, leather and woven metal strip handle, late 20th century—45 ozsT, together with six Limoges porcelain cups, red leather fitted case. Rec'd—February 23, 2001. Est. Value—$1,000.00. Pending transfer to GSA | His Highness Shaykh Jabir al-Ahmad Al Sabah Amir, State of Kuwait | Non-acceptance would cause embarrassment to donor and U.S. Government.
Colin Powell, Secretary of State | Medal, commemorative, 38.61 mm, proof 22 karat yellow gold, 40th Anniversary of the National Day of the State of Kuwait, 2001, plastic case, 47.54 g and Medal, commemorative, 55 mm, proof sterling silver, 72.5 g. Rec'd—February 23, 2001. Est. Value—$475.00. Pending transfer to GSA | His Excellency Shaykh al-Ahmad al-Jabir Al Sabah, First Deputy Prime Minister and Minister of Forei, State of Kuwait | Non-acceptance would cause embarrassment to donor and U.S. Government.
Colin Powell, Secretary of State | Robes (bishts) brown cotton and black cotton gauze fabric, each with gold embroidery, Kuwait, late 20th century. Rec'd—February 23, 2001. Est. Value—$350.00. Pending transfer to GSA | His Excellency Shaykh Sabah al-Ahmad al-Jabir Al Sabah, First Deputy Prime Minister and Minister of Forei, State of Kuwait | Non-acceptance would cause embarrassment to donor and U.S. Government.
Colin Powell, Secretary of State | Robes (bishts) brown cotton and black cotton gauze fabric, each with gold embroidery, Kuwait, late 20th century. Rec'd—February 23, 2001. Est. Value—$350.00. Pending transfer to GSA | His Excellency Shaykh Sabah al-Ahmad al-Jabir Al Sabah, First Deputy Prime Minister and Minister of Forei, State of Kuwait | Non-acceptance would cause embarrassment to donor and U.S. Government.
Colin Powell, Secretary of State | Arrows, 23¼″x34″, bamboo shafts with four black stone and one wood head, feather ends, mounted against a sumi on paper drawing of a deer hunt, Korea, 20th century, matted and framed. Rec'd—March 7, 2001. Est. Value—$350.00. Pending transfer to GSA | His Excellency Kim Dae-jung, President, Republic of Korea | Non-acceptance would cause embarrassment to donor and U.S. Government.
Mrs. Alma Powell, Spouse, Secretary of State | Fabric, 30″x240″, silk brocade with oriental motif, China, late 20th century. Rec'd—March 21, 2001. Est. Value—$300.00. Pending transfer to GSA | Madame Zhou Hangiong, Spouse, People's Republic of China. | Non-acceptance would cause embarrassment to donor and U.S. Government.
Colin Powell, Secretary of State | Scribe's pen box and inkwell, 10¾″L, 900 silver with chased decoration, Turkish 20th century copy of the 17th century Ottoman original, fitted box, 160zsT. Rec'd—March 30, 2001. Est. Value—$500.00. Pending transfer to GSA | His Excellency Ismail Cem, Minister of Foreign Affairs Republic of Turkey | Non-acceptance would cause embarrassment to donor and U.S. Government.
Colin Powell, Secretary of State | Cigarette box, 7½″L, sterling silver, lid engraved with the Royal Jordanian coat of arms and the facsimile signature of King Abdullah, by Kuhn, Germany, #27 late 20th century, fitted case, gross weight 20ozsT. Rec'd—April 4, 2001. Est. Value—$500.00. Pending transfer to GSA | Their Majesties King Abdullah II bin al Hussein and Queen Rania King and Queen Hashemite Kingdom of Jordon | Non-acceptance would cause embarrassment to donor and U.S. Government.
Colin Powell, Secretary of State | Vase, 10½″ H, Kutani ceramic with parcel gold ground and white cranes, Japan, late 20th century, wood box. Rec'd—April 4, 2001. Est. Value—$750.00. Pending transfer to GSA | His Excellency Yoshiro Mori, Prime Minister, Japan | Non-acceptance would cause embarrassment to donor and U.S. Government.
Colin Powell, Secretary of State | Bowls, 7¾″ diameter, pierced, chased and repoussed sterling silver, India, late 20th century, 8ozsT, fitted box. Rec'd—April 6, 2001. Est. Value—$300.00. Pending transfer to GSA | His Excellency Jaswant Singh, Minister of External Affairs, Republic of India | Non-acceptance would cause embarrassment to donor and U.S. Government.
Colin Powell, Secretary of State | Drum, 44½″ Hx13½″ diameter, stretched skin on carved wood depicting many figures engaged in a celebration, other celebrating figures to column, portrait heads, Africa, 3rd quarter to late 20th century. Rec'd—April 17, 2001. Est. Value—$450.00. Pendings transfer to GSA | Chief Mila Assoure, Member of the Central Committee on the RDCP Republic of Cameroun | Non-acceptance would cause embarrassment to donor and U.S. Government.
Colin Powell, Secretary of State | Painting, oil on canvas board, 15½″x15½″, village scene, by H. Jouni, late 20th century, matted and framed. Rec'd—April 25, 2001. Est. Value—$400.00. Pending transfer to GSA | His Excellency Rafiq al-Hariri, Prime Minister, Republic of Lebanon | Non-acceptance would cause embarrassment to donor and U.S. Government.
Colin Powell, Secretary of State | Icon, 12″ x 8½″, polychrome and gold ground on wood panel depicting St. George and the Dragon, Bulgaria, dated 2001. Rec'd—April 25, 2001. Est. Value—$300.00. Pending transfer to GSA | His Excellency Ivan Kostov, Prime Minister, Republic of Bulgaria | Non-acceptance would cause embarrassment to donor and U.S. Government.
Colin Powell, Secretary of State | Plaque, 12¾″x10¼″, 800 silver easel frame inset with turquoise color panel mounted with silver map of Bahrain and islands studded with seed pearls and set with 96 round diamonds TW 3.75 carats, late 20th century. Rec'd—May 7, 2001. Est. Value—$4,000.00. Pending transfer to GSA | His Highness Shaykh Hamad bin Essa Al Khalifa Amir, State of Bahrain | Non-acceptance would cause embarrassment to donor and U.S. Government.
Colin Powell, Secretary of State | Sculpture—Tribal, carved wood, seated male and female figures. Rec'd—May 23, 2001. Est. Value—$750.00. Pending transfer to GSA | His Excellency Mobido Sidibe, Minister of Foreign Affairs and Malians Abroad, Republic of Mali | Non-acceptance would cause embarrassment to donor and U.S. Government.
Colin Powell, Secretary of State | Painting, oil on canvas, 30″x37½″, Thompson's Gazelle, by (Francis?) Taga, Africa, 2000, wood frame. Rec'd—May 27, 2001. Est. Value—$750.00. Pending transfer to GSA | His Excellency Yoweri Kaguta Museveni, President Republic of Uganda | Non-acceptance would cause embarrassment to donor and U.S. Government.
Colin Powell, Secretary of State | Plaque, 7½″ diameter, copper with relief “King David”, centered with a polychrome enamel picture of King David, #881/2450, after Marc Chagall, 20th/21st century, framed and boxed. Rec'd—May 31, 2001. Est. Value—$400.00. Pending transfer to GSA | His Excellency Moshe Katsav, President, Israel | Non-acceptance would cause embarrassment to donor and U.S. Government.
Colin Powell, Secretary of State | Diorama, 22″x14″, abalone shell and mother of pearl depicting “The Nativity” in Bethlehem, Palestine, late 20th century, fitted red velvet case. Rec'd—June 28, 2001. Est. Value—$750.00. Pending transfer to GSA | His Excellency Yasser Arafat, Chairman, Palestine Liberation Organization | Non-acceptance would cause embarrassment to donor and U.S. Government.
Colin Powell, Secretary of State | Sword, 29″L with scabbard, sliver filigree set with 16 coral cabochons, Algerian, 20th/21st century, 44ozsT including blade. Rec'd—July 12, 2001. Est. Value—$2,000.00. Pending transfer to GSA | His Excellency Abdelaziz Boutefilka, President, Republic of Algeria | Non-acceptance would cause embarrassment to donor and U.S. Government.
Colin Powell, Secretary of State | Bowl, footed, 10½″x8½″ oval, Chinese Export porcelain with polychrome enamel figures, flowers and colophons to exterior, China, mid to 3rd quarter 19th century, boxed. Rec'd—July 25, 2001. Est. Value—$350.00. Pending transfer to GSA | Mr. Tung Chee-Hwa, Executive, Government of Hong Kong | Non-acceptance would cause embarrassment to donor and U.S. Government.
Colin Powell, Secretary of State | Five volumes: “The Complete Sagas of Icelanders”, published by Leifur Eirksson, late 20th century, boxed. Rec'd—August 8, 2001. Est. Value—$390.00. Pending transfer to GSA | His Excellency Halldor Asgrimsson, Minister of Foreign Affairs, Republic of Iceland | Non-acceptance would cause embarrassment to donor and U.S. Government.
Colin Powell, Secretary of State | Beaker, 4″H, sterling silver, repousse with geometric, “Aztec” decoration, by Marmolejo-Izta, Mexico, 20th/21st century. 10ozsT. Rec'd—September 6, 2001. Est. Value—$350.00. Pending transfer to GSA | His Excellency Vicente Fox, United Mexican States | Non-acceptance would cause embarrassment to donor and U.S. Government.
Colin Powell, Secretary of State | Model of a temple, 7¼″ H, silver, Indonesia, 20th/21st century, 32ozsT, boxed. Rec'd—September 19, 2001. Est. Value—$550.00. Pending transfer to GSA | His Excellency Soekamopoutri Megawati, President, Republic of Indonesia | Non-acceptance would cause embarrassment of donor and U.S. Government.
Colin Powell, Secretary of State | Cup, handled, 3″ H, sterling silver, repoussed with ancient Greek scene, reproduction by IIias Lalaounis, Greece, 20th/21st century, boxed. Rec'd—October 3, 2001. Est. Value—$400.00. Pending transfer to GSA | His Excellency George Papandreou, Minister of Foreign Affairs, Hellenic Republic (Greece) | Non-acceptance would cause embarrassment of donor and U.S. Government.
Colin Powell, Secretary of State | Painting, oil on canvas, 27″ x 27″ Georgian Mythological scene, by Gia Bugadze, 20th/21st century, framed. Rec'd—October 5, 2001. Est. Value—$500.00. Pending transfer to GSA | His Excellency Eduard Shevardnadze, President, State of Georgia | Non-acceptance would cause embarrassment of donor and U.S. Government.
Colin Powell, Secretary of State | Sculpture, 12¼″x12¼″, sterling silver, made London 1995-6 by “GGM”, depicting a fort and centered with the coat of arms of Qatar, walnut base, fitted leather case, 150ozsT. Rec'd—October 5, 2001. Est. Value—$5,000.00. Pending transfer to GSA | His Highness Sheikh Hamad bin Khalifa Al Thani Amir, State of Qatar | Non-acceptance would cause embarrassment of donor and U.S. Government.
Colin Powell, Secretary of State | Plaque, 38″x24″, sheet copper with polychrome decoration centered with a repousse figure of a tribal dancer, by Mumba, 2001, framed. Rec'd—November 1, 2001. Est. Value—$850.00. Pending transfer to GSA | His Excellency Joseph Kabila, President, Democratic Republic of the Congo | Non-acceptance would cause embarrassment of donor and U.S. Government.
Colin Powell, Secretary of State | Diorama, 22″x14″, abalone shell and mother of pearl depicting “The Nativity” in Bethlehem, Palestine, late 20th century, fitted red velvet case. Rec'd—November 9, 2001. Est. Value—$750.00. Pending transfer to GSA | His Excellency Yasser Arafat, Chairman, Palestine Liberation Organization | Non-acceptance would cause embarrassment of donor and U.S. Government.
Mrs. Alma Powell, Spouse, Secretary of State | Necklace, bracelet, pair of earrings and ring, silver filigree with coral beads, Yemen, 20th/21st century, boxed. Rec'd—November 27, 2001. Est. Value—$450.00. Pending transfer to GSA | His Excellency Ali Abdullah Saleh, President, Republic of Yemen | Non-acceptance would cause embarrassment of donor and U.S. Government.
Colin Powell, Secretary of State | Dagger, bent, silver hilt and scabbard set with 6 carnelian cabochons, Yemen, 20th/21st century, boxed. Rec'd—November 27, 2001. Est. Value—$1,250.00. Pending transfer to GSA | His Excellency Ali Abdullah Saleh, President, Republic of Yemen | Non-acceptance would cause embarrassment of donor and U.S. Government.
Colin Powell, Secretary of State | Gravy boat, 9 38″ L, hand wrought sterling silver, two side handles, by Ilias Lalaounis, Greece, late 20th century. Rec'd—December 1, 2001. Est. Value—$300.00. Pending transfer to GSA | His Excellency George Papandreou, Minister of Foreign Affairs, Hellenic Republic (Greece) | Non-acceptance would cause embarrassment to donor and U.S. Government.
Colin Powell, Secretary of State | Scribe's box, 10¾″ L, 900 silver decorated with bright cut engraving, Turkey, late 20th century. Rec'd—December 2, 2001. Est. Value—$400.00. Pending transfer to GSA | His Excellency Ismail Cem, Minister of Foreign Affairs, Republic of Turkey | Non-acceptance would cause embarrassment to donor and U.S. Government.
Colin Powell, Secretary of State | Bowl, 6¼″ diameter across two mountain goat head handles, silver, gilt lined, set with 8 cabochon carnelians and 6 cabochon chrysoprases, Kazakhstan reproduction of a “Saks” bowl, stitched leather presentation box. Rec'd—December 9, 2001. Est. Value—$300.00. Pending transfer to GSA | His Excellency Nursultan Nazarbayev, President, Republic of Kazakhastan | Non-acceptance would cause embarrassment to donor and U.S. Government.
Colin Powell, Secretary of State | Coverlet, 86″x105″, patchwork pieces of cloth, mid 20th century. Rec'd—December 15, 2001. Est. Value—$375.00. Pending transfer to GSA | His Excellency Maleeha Lodhi, Ambassador to the United States, Islamic Republic of Pakistan | Non-acceptance would cause embarrassment to donor and U.S. Government.
Donal Burnham Ensenat, Chief of Protocol | Dagger, 17″ H, silver filigree hilt and scabbard set with 15 orange coral cabochons, Algerian, late 20th century, wood box. Rec'd—July 12, 2001. Est. Value—$400.00. Retained for Official Use | His Excellency Abdelaziz Boutefilka, President, Democratic Republic of Algeria | Non-acceptance would cause embarrassment to donor and U.S. Government.
Department of State | Desktop implements, leather box, Asprey, London, late 20th century: 18K yellow gold clock with 55 round diamonds TW2 carats, 2 Mont Blanc silver gilt (vermeil) pens, a green lizard change purse, & pair 18K gold, diamond, emerald & mabe pearl earrings. Rec'd—Est. Value—$15,000.00. Pending transfer to GSA | Unknown.
Colin Powell, Secretary of State | Orthodox egg, 6¾″ H, pierced sterling silver gilt (vermeil) with reddish orange enamel and set with imitation diamonds, Russian, late 20th century. Rec'd—December 9, 2001. Est. Value—$2,000.00. Pending transfer to GSA | His Excellency Igor Ivanov, Minsiter of Foreign Affairs, Russian Federation | Non-acceptance would cause embarrassment to donor and U.S. Government.
Colin Powell, Secretary of State | Carpet, 45″ x 63″, wool and silk on cotton, tan field with geometric caucasian design, multiple borders, Uzbekistan, 20th/21st century. Rec'd—November 5, 2001. Est. Value—$1,850.00. Retained for Official Use | His Excellency DPM Tashkent, Republic of Uzbekistan | Non-acceptance would cause embarrassment to donor and U.S. Government.
Colin Powell, Secretary of State | Carpet, 9′7″ x 6′5″, wool on cotton, red, green and yellow geometric design, Algeria, 20th/21st Century. Rec'd—July 12, 2001. Est. Value—$1,000.00. Pending transfer to GSA | His Excellency Abdelaziz Bouteflika, President, Democratic Republic of Algeria | Non-acceptance would cause embarrassment to donor and U.S. Government.
Colin Powell, Secretary of State | Wine Rec'd—November 5, 2001. Est. Value—$54.00. Handled pursuant to Department of State procedures | His Excellency Abdelazia Bouteflika, President, Democratic Republic of Algeria | Non-acceptance would cause embarrassment to donor and U.S. Government.
Colin L. Powell, Secretary of State | Candleholder, 11″ H plus base, pierced sterling silver body, pricket base with wood bottom, by Frazer & Haws, India, 20th/21st century, 10ozsT plus base, boxed. Rec'd—November 9, 2001. Est. Value—$700.00, Pending transfer to GSA | His Excellency Jaswant Singh, Minister of External Affairs, Republic of India | Non-acceptance would cause embarrassment to donor and U.S. Government.
Colin L. Powell, Secretary of State | Coffee pot, 13″ H, silver, typical form, engraved ground, by Al Mannai, Bahrain, 20th/21st century, 44ozsT. Rec'd—November 30, 2001. Est. Value—$1,000.00. Pending transfer to GSA | His Excellency Shaykh Mohammed bin Mubarak Al Khalifa, Minister of Foreign Affairs, State of Bahrain | Non-acceptance would cause embarrassment to donor and U.S. Government.
Johnny Young and Mrs. Johnny Young, U.S. Ambassador | Bracelet, gold with miniature pearls. Rec'd—Est. Value—$500.00. Pending Transfer to GSA | State of Bahrain | Non-acceptance would cause embarrassment to donor and U.S. Government.
Johnny Young, U.S. Ambassador | Carpet, silk 4½′x6½′ oriental design. Rec'd—December 1, 2001. Est. Value—$5,000.00. Retained for Official Use—Embassy Manama | State of Bahrain | Non-acceptance would cause embarrassment to donor and U.S. Government.
Ronald E. Neumann, U.S. Ambassador | Watches, matching men's and women's stainless steel and alloy wrist watches, Pierre Perron of Paris, boxed Rec'd—September 30, 2001. Est. Value—$400.00. Pending transfer to GSA | State of Bahrain | Non-acceptance would cause embarrassment to donor and U.S. Government.
George Tietjen, RSO | Laptop Computer. Rec'd—. Est. Value—$2,000.00. Pending transfer to GSA | Brig. General Issa, Syria | Attempted on several occasions to refuse gift—all of which were unsuccessful.

AGENCY: Department of the Treasury
[Report of Tangible Gifts]
Name and title of person accepting gift on behalf of the U.S. Government | Gift, date of acceptance on behalf of the U.S. Government, estimated value, and current disposition or location | Identity of foreign donor and government | Circumstances justifying acceptance
Edwin M. Truman, Assistant Secretary for International Affairs | Bills and monies of Ecuador in circulation. Rec'd—Nov. 2, 2000. Est. Value—$1,400. To be excessed to GSA | Luis Yturralde, Finance Minister, Govt. of Eduador | Non-acceptance would have caused embarrassment to donor and U.S. Government.
Paul H. O'Neill, Secretary of Treasury | Small silver dish. Rec'd—Mar. 15, 2001. Est. Value—$400. To be excessed to GSA | Andres Pastrana, President, Govt. of Columbia | Non-acceptance would have caused embarrassment to donor and U.S. Government.
Paul H. O'Neill, Secretary of Treasury | Australian blackwood box with gavel and hammer. Rec'd—Jul 6, 2001, Est. Value—$1,500. To be excessed to GSA | Mr. Chino, President of Asian Development Bank | Non-acceptance would have caused embarrassment to donor and U.S. Government.
Paul H. O'Neill, Secretary of Treasury | Handmade cold cast bronze sculpture. Rec'd—Jul 6, 2001. Est. Value—$380. To be excessed to GSA | John Kufuor, President, Govt. of Ghana | Non-acceptance would have caused embarrassment to donor and U.S. Government.
Paul H. O'Neill, Secretary of Treasury | Icon of St. George slaying the dragon. Rec'd—Jul 27, 2001. Est. Value—$880. To be excessed to GSA | Mr. Kudrin, Finance Minister of Russia | Non-acceptance would have caused embarrassment to donor and U.S. Government.
James H. Fall, III, Deputy Assistant Secretary, Technical Assistance Policy | Gold coin commemorating 2000 years of Christmas. Rec'd—Sep 28, 2001. Est. Value—$300. To be excessed to GSA | Petro O. Poroshenko, People's Deputy of Ukraine | Non-acceptance would have caused embarrassment to donor and U.S. Government.

AGENCY: Department of Defense
[Report of Tangible Gifts]
Name and title of person accepting gift on behalf of the U.S. Government | Gift, date of acceptance on behalf of the U.S. Government estimate value, and current disposition or location | Identity of foreign donor and government | Circumstances justifying acceptance
Donald H. Rumsfeld, Sec. of Defense | Cotton rug. Rec'd—Oct. 4, 2001. Est. Value—$350.00. Reported to GSA—Pending Sec. Def. Decision | Field Marshall Hussein Tantawy, Egypt | Non-acceptance would have caused embarrassment to donor and U.S. Government.
Donald H. Rumsfeld, Sec. of Defense | Silver Flatware (24 piece set). Rec'd—Oct. 4, 2001. Est. Value—$560.00. Reported to GSA—March 13, 2001. Decision | President Islam Karimov, Uzbekistan | Non-acceptance would have caused embarrassment to donor and U.S. Government.
Donald H. Rumsfeld, Sec. of Defense | Coin set honoring 2002 FIFA World Cup Korea Japan. Rec'd—Nov. 15, 2001. Est. Value—$275.00. Reported to GSA—Pending | Korean MOD, Kim Dong-Shin | Non-acceptance would have caused embarrassment to donor and U.S. Government.
Donald H. Rumsfeld, Sec. of Defense | Silver spoons w/ ducks on handles. Rec'd—Nov. 15, 2001. Est. Value—$275.00. Reported to GSA—Pending | Korean MOD, Kim Dong-Shin | Non-acceptance would have caused embarrassment to donor and U.S. Government.
Donald H. Rumsfeld, Sec. of Defense | Tiffany crystal bowl. Rec'd—Dec. 15, 2001. Est. Value—$420.00. Reported to GSA—Pending | Salim Al-Abdallah Jabir Al Sabah, Ambassador Kuwait | Non-acceptance would have caused embarrassment to donor and U.S. Government.
Donald H. Rumsfeld, Sec. of Defense | Silk carpet. Rec'd—Dec. 16, 2001. Est. Value—$390.00. Reported to GSA—Pending | Fahid Kahn, MOD Afghanistan | Non-acceptance would have caused embarrassment to donor and U.S. Government.
Donald H. Rumsfeld, Sec. of Defense | Painting of (Adoration of the Magi). Rec'd—Dec. 15, 2001. Est. Value—$340.00. Reported to GSA—Pending Sec. Def. Decision | President Schevardnadze, Georgia | Non-acceptance would have caused embarrassment to donor and U.S. Government.
Donald H. Rumsfeld, Sec. of Defense | Silver, gold multicolored sword. Rec'd—Dec. 15, 2001. Est. Value—$360.00. Reported to GSA—Mar. 13, 2001 | MOD Safar Abiyev, Azerbaijan | Non-acceptance would have caused embarrassment to donor and U.S. Government.
Donald H. Rumsfeld, Sec. of Defense | Large wood chest w/brass and copper. Rec'd—Nov. 4, 2001. Est. Value—$340.00. Reported to GSA—Mar. 13, 2001 | President General Pervez Musharraf of Pakistan | Non-acceptance would have caused embarrassment to donor and U.S. Government.
Donald H. Rumsfeld, Sec. of Defense | Painting of a village in front of a mountain. Rec'd—Nov. 29, 2001. Est. Value—$340.00. Reported to GSA—Jan. 30, 2002 | MOD Kodir Gulomov, Uzbekistan | Non-acceptance would have caused embarrassment to donor and U.S. Government.
Mrs. Rumsfeld, Spouse of Sec. of Defense | Gold necklace. Rec'd—Oct. 4, 2001. Est. Value—$925.00. Reported to GSA—Pending Sec. Def. Decision | Field Marshall Hussien Tantawy, Egypt | Non-acceptance would have caused embarrassment to donor and U.S. Government.
Gen. Henry H. Shelton, CJCS | CSX Diamond Chronograph watch. Rec'd—Jul 17, 2001. Est. Value—$350.00. Reported to GSA—Oct 30, 2001 | Maj. Gen. Hamad Ali al-Attiyah, Chief of Staff, Qatar Armed Forces | Non-acceptance would have caused embarrassment to donor and U.S. Government.
Gen. Henry H. Shelton, CJCS | Wooden ship model. Rec'd—May 1, 2001. Est. Value—$550.00. Reported to GSA—Jul 30, 2001 | General Manoussos Paragioudakis, Chief Of the Hellenic National Defense General Staff | Non-acceptance would have caused embarrassment to donor and U.S. Government.
Gen. Heny H. Shelton, CJCS | Silver Bowl and Plate set. Rec'd—Jun 5, 2001. Est. Value—$270.00. Reported to GSA—Jul 6, 01 | Lt. General Madgy Hatata, Egyptian Chief Defense | Non-acceptance would have caused embarrassment to donor and U.S. Government.
Gen. Henry H. Shelton, CJCS and Spouse Mrs. Carolyn J. Shelton | Concord watch. Rec'd—Jul 17, 2001. Est. Value—$780.00. Reported to GSA—Oct 30, 2001 | Maj Gen. Hamad Ali al-Attiyah, Chief of Staff, Qatar Armed Forces | Non-acceptance would have caused embarrassment to donor and U.S. Government.
Gen. Henry H. Shelton, CJCS and Spouse Mrs. Carolyn J. Shelton | Gold Bracelet. Rec'd—Jun 5, 2001. Est. Value—$1,200.00. Reported to GSA—Jul 30, 2001 | Lt. Gen Magdy Hatata, Egyptian Chief of Defense | Non-acceptance would have caused embarrassment to donor and U.S. Government.
Gen. Henry H. Shelton, CJCS and Spouse Mrs. Carolyn J. Shelton | Gold Scarab Necklace. Rec'd—Jun 5, 2001. Est. Value—$650.00. Reported to CSA—Jul 30, 2001 | Field Marshal Hussein Tantawy CINC Of the Armed Forces, MOD, Military Production | Non-acceptance would have caused embarrassment to donor and U.S. Government.

AGENCY: Department of the Navy
[Report of Tangible Gifts]
Name and title of person accepting gift on behalf of the U.S. Government | Gift, date of acceptance on behalf of the U.S. Government estimated value, and current disposition or location | Identity of foreign donor and government | Circumstances justifying acceptance
Guy R. Abbate, Jr. Naval Justice School, Newport | Man's watch. Recd—November 16, 2001. Est. Vaule—$1080. Being retained at CNO (N09B13) | United Arab Emirates | Non-acceptance would have caused embarrassment to donor and U.S. Government.
William C. Aseltine, Naval Justice School, Newport | Man's watch. Recd—November 16, 2001. Est. Value—$1080. Being retained in CNO (N09B13) | United Arab Emirates | Non-acceptance would have caused embarrassment to donor and U.S. Government.
Capt. Dennis G. Bengtson, Naval Justice School, Newport | Man's watch. Recd—November 16, 2000. Est. Value—$1080. Being retained in CNO (N09B13) | United Arab Emirates | Non-acceptance would have caused embarrassment to donor and U.S. Government.
Kathleen Bengston, spouse of Capt. Bengtson, Naval Justice School, Newport | Woman's watch. Recd—November 16, 2000. Est. Value—$1500. Being retained at CNO (N09B13) | United Arab Emirates | Non-acceptance would have caused embarrassment to donor and U.S. Government.
Cassie A. Cioci, Naval Justice School, Newport | Woman's watch. Recd—November 16, 2000. Est. Value—$850. Being retained at CNO (N09B13) | United Arab Emirates | Non-acceptance would have caused embarrassment to donor and U.S. Government.
Adm. V.E. Clark, Chief of Naval Operations | Gold brass plaque. Recd—23 Mar 2001. Est. Value—$300. Being retained at CNO (N09B13) | Singapore Navy | Non-acceptance would have caused embarrassment to donor and U.S. Government.
Adm. Thomas B. Fargo, Commander in Chief, U.S. Pacific Fleet | Necklace. Recd—April 19, 2001. Est. Value—$475. Being retained at CN09B13) | Republic China Navy | Non-acceptance would have caused embarrassment to donor and U.S. Government.
Karl Farris, Naval Justice School, Newport | Man's watch. Recd—November 16, 2000. Est. Value—$1080. Being retained at CNO (N09B13) | United Arab Emirates | Non-acceptance would have caused embarrassment to donor and U.S. Government.
RAdm. Richard B. Porterfield, Director, Naval Intelligence | Necklace cuff links silver set. Recd—January 30, 2001. Est. Value—$300. Being retained at CNO (N09B13) | Egyptian Military Directorate | Non-acceptance would have caused embarrassment to donor and U.S. Government.
Adm. Thomas B. Fargo, Commander in Chief, U.S. Pacific Fleet | Man and woman's watch. Recd—July 30, 2001. Est. Value—$1200. Official use | Japan National Defense League | Non-acceptance would have caused embarrassment to donor and U.S. Government.
BGen. Leif H. Hendrickson, Marine Corps University | Framed print. Recd—December 6, 2001. Est. Value—$300. Command display | Australian Army | Non-acceptance would have caused embarrassment to donor and U.S. Government.
Col. Craig Huddleston, Command and Staff College | Model aircraft in case. Recd—November 28, 2001. Est. Value—$350. Command display | Saudi Air Force | Non-acceptance would have caused embarrassment to donor and U.S. Government.
Col. David Reist, Command and Staff College | Model aircraft in case. Recd—November 28, 2001. Est. Value—$300. Command display | Saudi Air Force | Non-acceptance would have caused embarrassment to donor and U.S. Government.
LtGen. Frank Libutti U.S. Marine Forces, Pacific | Fountain pen. Recd—August 10, 2001. Est. Value—$350. Command for official use | Republic of Korea | Non-acceptance would have caused embarrassment to donor and U.S. Government.
VAdm. Charles W. Moore, Jr., Commander, U.S. Naval Forces Central Command | Recd—March 6, 2001. Value—$2450. Expended for hotel and meals | UAE Armed Forces | Official trip.

AGENCY: Department of the Air Force
[Report of Tangible Gifts]
Name and title of person accepting gift on behalf of the U.S. Government | Gift, date of acceptance on behalf of the U.S. Government, estimated value, and current disposition or location | Identity of foreign donor and government | Circumstances justifying acceptance
Colonel Robert E. Chapman II, Chief, Saudi Arabia Division, International Affairs (SAF/IARS), Washington, DC | Men's Rolex “Air King,” silver-faced Oyster Perpetual watch, model #14010, serial #P-709764. Recd—June 2001. Est. Value—$2,100. On official display at SAF/IARS, pending turn-in to GSA | Major General Mohammed A. Al-Ayeesh, Director, Logistics and Supply, Royal Saudi Air Force | Non-acceptance would have caused embarrassment to the donor & U.S. Government.
Colonel Jeffery S. Cohen, Deputy Commander, 32d Air Operations Group, RAF Mildenhall, United Kingdom | Two uncarved elephant tusks, each 15 inches tall. Recd—October 23, 2000. Est. Value—$1,000. Destroyed, November 3, 2001 | Air Marshall Alfa, Chief of Staff, Nigerian Air Force | Non-acceptance would have caused embarrassment to the donor & U.S. Government.
General Ralph E. Eberhart, Commander in Chief/U.S. Space Command, NORAD, Colorado Springs, Colorado | Persian Tabriz-stylized Heriz design Oriental rug, 5′1″ by 6′8″, light green and lavender central medallion on a peach-colored field. Recd—January 15, 2001. Est. Value—$2,300. On official display at HQ NORAD, Colorado | Mr. Abdulazim Karaman, Senior Arab Affairs Advisor, Saudi Arabia | Non-acceptance would have caused embarrassment to the donor & U.S. Government.
Colonel Steven R. Eddy, Director of Operations, 3 AF, RAF Mildenhall, United Kingdom | Two carved elephant tusks, each 17 inches tall. Recd—October 23, 2000 Est. Value—$1,000. Destroyed, November 3, 2001 | Air Marshall Alfa, Chief of Staff, Nigerian Air Force | Non-acceptance would have caused embarrassment to the donor & U.S. Government.
Major General Kenneth W. Hess, Commander, 3 AF, RAF Mildenhall, United Kingdom | One carved elephant tusk, 15-inches tall. Recd—October 23, 200. Est. Value—$500. Destroyed, November 3, 2001 | Air Marshall Alfa, Chief of Staff, Nigerian Air Force | Non-acceptance would have caused embarrassment to the donor & U.S. Government.
Colonel Karl A. Kaszuba, Staff Judge Advocate, 3 AF, RAF Mildenhall, United | Two carved elephant tusks, 18-inches tall. Recd—October 23, 2000. Est. Value—$1,000. Destroyed, November 3, 2001 | Air Marshall Alfa, Chief of Staff, Nigerian Air Force | Non-acceptance would have caused embarrassment to the donor & U.S. Government.
Major General David F. MacGhee, Jr., Commandant, Air War College (AWC), Maxwell Air Force Base, Alabama | 18-carat gold and jade prayer beads Recd—April 17, 2001. Est. Value—$2,500. On official display at AWC, Maxwell Air Force Base, Alabama | His Royal Highness Prince Bandar Bin Sultan Bin Abdulaziz, Ambassador of Saudi Arabia to the United States | Non-acceptance would have caused embarrassment to the donor & U.S. Government.
Colonel Phillip C. Miller, Jr., Director of Logistics, 3 AF, RAF Mildenhall United Kingdom | Two carved elephant tusks, 17-inches tall, Recd—October 23, 200. Est. Value—$1,000. Destroyed, November 3, 2001 | Air Marshall Alfa, Chief of Staff, Nigerian Air Force | Non-acceptance would have caused embarrassment to the donor & U.S. Government.
Mr. Willard Mitchell, Deputy Under Secretary, International Affairs (SAF/IA), Washington, D.C | Men's Rolex “Air King” pink Arabic oyster perpetual watch, model #14000, serial #U653804. Recd—June 27, 2001. Est. Value—$2,100. Pending turn-in to GSA | Major General Mohammed A. Al-Ayeesh, Director, Logistics and Supply, Royal Saudi Air Force | Non-acceptance would have caused embarrassment to the donor & U.S. Government.
Mr. Willard Mitchell, Deputy Under Secretary, International Affairs (SAF/IA), Washington, D.C | Women's Rolex “Air King” pink Arabic oyster perpetual watch, model #76080, serial #P150416. Recd—June 27, 2001. Est. Value—$2,100. Pending turn-in to GSA | Major General Mohammed A. Al-Ayeesh, Director, Logistics and Supply, Royal Saudi Air Force | Non-acceptance would have caused embarrassment to the donor & U.S. Government.
Colonel James R. Nelson, Commander, Air Force Office of Special Investigations—United Kingdom, RAF Mildenhall, United Kingdom | Two carved elephant tusks, 17-inches tall. Recd—October 23, 2000 Est. Value—$1,000. Destroyed, November 3, 2001 | Air Marshall Alfa, Chief of Staff, Nigerian Air Force Forces | Non-acceptance would have caused embarrassment to the donor & U.S. Government.
Mr. Ronald L. Orr, Assistant Deputy Chief of Staff, Air Force Installations and Logistics, Washington, D.C | Stainless steel Rolex oyster perpetual watch with Saudi Air Force emblem, model 14000, serial #P708733. Recd—June 29, 2001. Est. Value—$1,000. Pending turn-in to GSA | Major General Mohammed A. Al-Ayeesh, Director, Logistics and Supply, Royal Saudi Air Force | Non-acceptance would have caused embarrassment to the donor & U.S. Government.
General Michael E. Ryan, Chief of Staff, USAF, Washington, D.C | Painting and ceramic fruit string. Recd—June 15, 2001. Est. Value—$375 aggragately. Turned in to GSA, October 11, 2001 | Colonel Mario Rene Siliezar Giron, Commander, Guatemalan Air Force | Non-acceptance would have caused embarrassment to the donor & U.S. Government.
General Michael E. Ryan, Chief of Staff, USAF, Washngton, D.C | Painting. Recd—June 15, 2001. Est. Value—$550. Turned in to GSA, October 11, 2001 | Lt. General Jose Malaquin Correa, Commander, Uruguay Air Force | Non-acceptance would have caused embarrassment to the donor & U.S. Government.
General Michael E. Ryan, Chief of Staff, USAF, Washington, D.C | Painting. Recd—June 5, 2001. Est. Value—$600. Turned in to GSA, October 11, 2001 | ACM Squire, Commander-in-Chief, Royal Air Force, United Kingdom | Non-acceptance would have caused embarrassment to the donor & U.S. Government.
General Michael E. Ryan, Chief of Staff, USAF, Washington, D.C | Eight (8) silver coins. Recd—January 4, 1999. Est. Value—$500. Turned in to GSA, October 11, 2001 | State President Guntis Ulmanis, President, Republic of Latvia | Non-acceptance would have caused embarrassment to the donor & U.S. Government.
General John T. Sheridan, Commandant, Air Command and Staff College (ACSC), Maxwell Air Force Base, Alabama | 18-carat gold and jade prayer beads Recd—April 27, 2001. Est. Value—$2,500. On official display at ACSC Maxwell Air Force Base, Alabama | His Royal Highness Prince Bandar bin Sultan Bin Abdulaziz, Ambassador of Saudi Arabia to the United States | Non-acceptance would have caused embarrassment to the donor & U.S. Government.
Brigadier General Francis X. Taylor, Commander, Air Force Office of Special Investigations, (AFOSI) Bolling Air Force Base, D.C | Silver dagger and sheath. Recd—April 27, 2001. Est. Value—$1,000. On official display at HQ AFOSI | Embassy of Oman | Non-acceptance would have caused embarrassment to the donor & U.S. Government.
Brigadier General Francis X. Taylor, Commander, AFOSI, Bolling Air Force Base, D.C | Flat weave wool Kilim carpet. Recd—November 17, 2002. Est. Value—$850. On official display at HQ AFOSI Protocol lounge | Mr. Turen Genc, Chief of Turkish National Police | Non-acceptance would have caused embarrassment to the donor & U.S. Government.
Mrs. Marilyn Wald, wife of Lt. General Charles F. Wald, Commander, USCENTAF, Shaw Air Force Base, South Carolina | Stainless steel Concord Delirium ladies watch with silver dial and four Roman numeral markers Model #0304374. Est. Value—1,200. Pending turn-in to GSA | Brigadier General Hamad bin Alibin Hamad Al-Ahiyan, Chief, Armed Forces of Qatar | Non-acceptance would have caused embarrassment to the donor & U.S. Government.
Mrs. Marilyn Wald, wife of Lt. General Charles F. Wald, Commander, USCENTAF, Shaw Air Force Base, South Carolina | Gold bracelet. Recd—October 16, 2000. Est. Value—$950. Pending turn-in to GSA | Brig Staff Pilot Khalid bin Abdullah Mubarak Al Buainneen, Commander, United Arab Emirates Air Force and Air Defense | Non-acceptance would have caused embarrassment to the donor & U.S. Government.
Captain Joseph P. Wedding, Aide, d-Camp, 3 AF, RAF Mildenhall, United Kingdom | Two uncarved elephant tusks, 15-inches tall. Recd—October 23, 2000. Est. Value—$1,000. Destroyed November 3, 2001 | Air Marshall Alfa, Chief of Staff, Nigerian Air Force | Non-acceptance would have caused embarrassment to the donor & U.S. Government.

AGENCY: FBI
[Report of Tangible Gifts]
Name and title of person accepting gift on behalf of the U.S. Government | Gift, date of acceptance on behalf of the U.S. Government, estimated value, and current disposition or location | Identity of foreign donor and government | Circumstance justifying acceptance
Wilford Rattigan, Legal Attache, Riyadh | Winter Bisht (Formal Saudi Topcoat). Recd—10/01. Est. Value—$250.00. On Display | United Arab Emirates | Courtesy gift, received when conducting a Needs Assessment Review.
Wilford Rattigan, Legal Attache, Riyadh | Summer Bisht (Formal Saudi Topcoat). Recd—10/01. Est. Value—$250.00. On Display | United Arab Emirates | Courtesy gift received when conducting a Needs Assessment Review.
Wilford Rattigan, Legal Attache, Riyadh | Fortix Stainless Steel Watch. Recd—10/01. Est. Value—$500.00. On Display | United Arab Emirates | Courtesy gift received when conducting a Needs Assessment Review.

AGENCY: United States Department of Agriculture
[Report of Tangible Gifts—CY-2001]
Name of title of person accepting gift on behalf of the U.S. Government | Gift, date of acceptance on behalf of the U.S. Government estimated value, and current disposition or location | Identify of foreign donor and government | Circumstances justifying acceptance
Ann M. Veneman, Secretary of Agriculture | A Mexican sterling silver pitcher. Rectangular tapering body, with pressed Greek key base and top border, with monogram “A.V.” Angular handle. Marked: “TERAL .925 Sterling Mexico.” Weight 835.5 grams. Packing box marked: Schiavon, dal 1957 1957 firma l'argente” and a label “Specially Manufactured for Tera.1.” Height 7¾″ and Width 5¾″; Depth 2¼″. Date received: September 6, 2001. Appraised retail value: $975. Disposition: In storeroom of the USDA Foreign Agricultural Service's Chief of Representation, Foreign Visitors and Protocol. An SF-120 will be prepared and the item will be turned-in to General Services Administration. Appraisal performed by John V. Lanterman, FASA (Fellow, American Society of Appraisers) and Barbara Shanley, Accredited Senior Appraiser on October 11, 2001 | Hon. Javier USABIAGA Arroyo, Mexican Secretary of Agriculture | Non-acceptance would have caused embarrassment to the donor and U.S. Government.

AGENCY: Department of Energy
[Report of Tangible Gifts]
Name and title of person accepting gift on behalf of the U.S. Government | Gift, date of acceptance on behalf of the U.S. Government estimated value, and current disposition or location | Identity of foreign donor and government | Circumstances justifying acceptance
Spencer Abraham, Secretary of Energy | A sample of Arabian light crude oil from the Arab (D) reservoir in a crystal decanter and a sample of oil-rich rock from the Manifa reservoir in a wood presentation box with gold tone liner. Received—April 27, 2001. Estimated Value—$590. Reported to GSA February 21, 2001; pending transfer to GSA | Ali I.—Naimi, Minister of Petroleum & Mineral Reservoirs, Kingdom of Saudi Arabia | Non-acceptance would have caused embarrassment to donor and U.S. Government.
Spencer Abraham, Secretary of Energy | Crystal bowl. Received—December 11, 2001. Estimated Value—$370. Reported to GSA February 21, 2001; pending transfer to GSA | Sheikh Saudi Nasser Al-Sabah, Ambassador of Kuwait | Non-acceptance would have caused embarrassment to donor and U.S. Government.

AGENCY: Securities and Exchange Commission
[Report of Tangible Gifts]
Name and title of person accepting gift on behalf of the U.S. Government | Gift, date of acceptance on behalf of the U.S. Government, estimated value, and current disposition or location | Identity of foreign donor and government | Circumstances justifying acceptance
Wayne M. Carlin, Regional Director, Northeast Regional Office | Plastic dish. Recd.—February 20, 2001. Unknown value. Sent to GSA for disposition | People's Republic of China, China Securities Regulatory Commission | Informational Meeting at NERO Gift to host.
Wayne M. Carlin, Regional Director, Northeast Regional Office | Bound volume of People's Republic of China postage stamps. Recd.—February 20, 2001. Unknown value. Sent to GSA for disposition | People's Republic of China, China Securities Regulatory Commission | Informational Meeting at NERO Gift to host.
Wayne M. Carlin, Regional Director, Northeast Regional Office | Framed glass plate. Recd.—February 26, 2001. Unknown value. Sent to GSA for disposition | People's Republic of China, China Securities Regulatory Commission | Informational Meeting at NERO Gift to host.

AGENCY: United States Agency for International Development
[Report of Tangible Gifts]
Name and title of person accepting gift on behalf of the U.S. Government | Gift, date of acceptance on behalf of the U.S. Government, estimated value, and current disposition or location | Identify of foreign donor and government | Circumstances justifying acceptance
Carrie Dailey, Executive Office, USAID/Benin | Gift: Gold jewelry. Date of acceptance: July 23, 2001. Estimated value: $494. Location: USAID/M/AS/CPD | USAID/Benin's landlady, Ms. El Hadja Rachidatou Nourou Soule's daughter | Attempts to decline acceptance were unsuccessful; further effort would have caused embarrassment to donor.

AGENCY: Central Intelligence Agency
[Report of Tangible Gifts]
Name and title of person accepting gift on behalf of the U.S. Government | Gift, date of acceptance on behalf of the U.S. Government, estimated value, and current disposition or location | Identity of foreign donor and government | Circumstances justifying acceptance
George J. Tenet, Director, Central Intelligence | Parquetry mother-of-pearl diorama, modern with a scene of the Last Supper above a nativity scene within the year 2000 H: 23½ inches; W: 15¾ inches; D: 3½ inches. Rec'd—12 June 2001. Est. value—$500. To be retained for official display | 5 U.S.C. 7342(f)(4) | Non-acceptance would have caused embarrassment to donor and U.S. Government.
George J. Tenet, Director, Central Intelligence | Parcel gilt and niello silver presentation sabre and sheath, modern. Elaborately decorate with foliage and arabesque reserves with chased decoration, in a walnut red velvet lined case. L: overall: 37½ inches. Rec'd—05 July 2001. Est. value—$750. To be retained for official display | 5 U.S.C. 7342(f)(4) | Non-acceptance would have caused embarrassment to donor and U.S. Government.
George J. Tenet, Director, Central Intelligence | Cased pair of reproduction brass and polished steel inlaid walnut flint-lock presentation pistols, modern; together with four implements. L of pistols: 15 inches. Rec'd—04 October 2001. Est. value—$300. To be retained for official display | 5 U.S.C. 7342(f)(4) | Non-acceptance would have caused embarrassment to donor and U.S. Government.
George J. Tenet, Director, Central Intelligence | Pair of unmarked yellow gold and diamond cufflinks, one market G. Sacco for Gerardo Sacco, modern, each set with four melee round faceted diamonds. Rec'd—05 November 2001. Est. value—$300. To be retained for official display | 5 U.S.C. 7342(f)(4) | Non-acceptance would have caused embarrassment to donor and U.S. Government.
George J. Tenet, Director, Central Intelligence | Agate mounted silver kindjal, modern, in a blue velvet fitted case. L: 23½ inches Rec'd—27 November 2001. Est. value—$400.00. To be retained for official display | 5 U.S.C. 7342(f)(4) | Non-acceptance would have caused embarrassment to donor and U.S. Government.
George J. Tenet, Director, Central Intelligence | Brass mounted wood presentation sabre, modern, in a fitted velvet lined case. L: 37 inches. Rec'd—21 December 2001. Est. value—$300. To be retained for official display | 5 U.S.C. 7342(f)(4) | Non-acceptance would have caused embarrassment to donor and U.S. Government.
George J. Tenet, Director, Central Intelligence | Engraved silver coffee pot, modern, typical form chased with bands of scrolling vines and flowers on a punch-work ground. H: 12½ inches; Weight: 55 oz. Rec'd—01 November 2001. Est. value—$500. To be retained for official display | 5 U.S.C. 7342(F)(4) | Non-acceptance would have caused embarrassment to donor and U.S. Government.

AGENCY: United States Senate
[Report of Tangible Gifts]
Name and title of person accepting gift on behalf of the U.S. Government | Gift, date of acceptance on behalf of the U.S. Government, estimated value and current disposition or location | Identity of foreign donor and government | Circumstances justifying acceptance
Mike DeWine, U.S. Senator | Oil painting, 28 x 23, rural Central American village scene. Recd.—February 20, 2000. Est. Value—$900. Display in SR 148 | President Carlos Roberto Flores of Honduras | Non-acceptance would have caused embarrassment to the donor and the U.S.
James M. Inhofe, U.S. Senator | Algerian-made carpet 10′ x 6′. Recd.—July 23, 2001. Est. Value—Exceeds $100. Display in SR 449 | President of Algeria, H.E. Abdelaziz Bouteflika | Non-acceptance would have caused embarrassment to the donor and the U.S.
Edward M. Kennedy, U.S. Senator | Statue of Cuchulainn (an Irish Folk Hero), Bronze, 12″ tall. Recd.—May 1, 2001. Est. Value—$108. Display in SR 315 | Prime Minister Bertie Ahern of Ireland | Non-acceptance would have caused embarrassment to the donor and the U.S.
Edward M. Kennedy, U.S. Senator | Glass Plate, Arabic design, gold trim with blue painting and red and green outer border. Recd.—February 26, 2000. Est. Value—$150. Deposited with Secretary of Senate | King Fahd of Saudi Arabia | Non-acceptance would have caused embarrassment to the donor and the U.S.
Edward M. Kennedy, U.S. Senator | Square Plate, Arabic design, teal, red and blue. Recd.—February 26, 2001. Est. Value—$150. Deposited with Secretary of Senate | King Abdullah of Jordan | Non-acceptance would have caused embarrassment to the donor and the U.S.
Edward M. Kennedy, U.S. Senator | Vase, Recd.—June 16, 2000. Est. Value—$220. Display SR 324 | Former President of Taiwan, Lee Ten-Hoi | Non-acceptance would have caused embarrassment to the donor and the U.S.
John F. Kerry, U.S. Senator | Two Rosenthal China Plates. Recd.—January 26, 2001. Est. Value—Exceeds $100. Deposited with Secretary of Senate | King Abdullah of Jordan | Non-acceptance would have caused embarrassment to the donor and the U.S.
Bill Nelson, U.S. Senator | Carpet, 120″ x 72″. Recd.—July 12, 2001. Est. Value—Exceeds $100. Display SH 716 | President of Algeria, H.E. Abdelaziz Bouteflika | Non-acceptance would have caused embarrassment to the donor and the U.S.
Bill Nelson, U.S. Senator | Carpet, 80″ x 48″. Recd.—April 14, 2001. Est. Value—Exceeds $100. Display SH 716 | President of Azerbaijan, Heyder Aliyer | Non-acceptance would have caused embarrassment to the donor and the U.S.
John D. Rockefeller IV, U.S. Senator | Framed print entitled “Wealth and Good Fortune”. Recd.—August 10, 2001. Est. Value—Exceeds $100. Display in SH 531 | Premier Chun-Hsiung Chang, Republic of China | Non-acceptance would have caused embarrassment to the donor and the U.S.

AGENCY: United States Senate
[Report of Travel or Expenses of Travel]
Name and title of person accepting travel expenses consistent with the interests of the U.S. Government | Brief description of travel or expenses accepted as consistent with the interests of the U.S. Government and occurring outside the United States | Identity of foreign donor and government | Circumstances justifying acceptance
Ian Brzezinski, Professional Staff Member, Committee on Foreign Relations | Transportation within Poland, Warsaw to Lublin, and return, June 2, 2001 | Government of Poland | No commercial transportation available within scheduled time frame.
Tom Daschle, U.S. Senator | Transportation within Mexico via small military aircraft, November 17-18, 2001 | Government of Mexico | No commercial transport available to accommodate meetings scheduled with Mexican officials.
Linda Daschle, Spouse of Senator | Transportation within Mexico via small military aircraft, November 17-18, 2001 | Government of Mexico | No commercial transport available to accommodate meetings scheduled with Mexican officials.
Dr. John Eisold, Attending Physicain | Transportation within Mexico via small military aircraft, November 17-18, 2001 | Government of Mexico | No commercial transport available to accommodate meetings scheduled with Mexican offcials.
Nancy Ives, Communications Director, Office of Senator McCain | Transportation and lodging within Thailand, April 19-22, 2001 | Thailand Ministry of Foreign Affairs | Non-acceptance would cause host government embarrassment.
Sue Keenom, Director of Administration, Office of Senator Gordon Smith | Transportation within Poland, Warsaw to Lublin, and return, June 2, 2001 | Government of Poland | No commercial transportation available within scheduled time frame.
Joab M. Lesesne, III, Chief of Staff, Senator Hollings | Transportation including lodging and meals within Thailand, April 19-22, 2001 | Thailand Ministry of Foreign Affairs | Non-acceptance would cause host government embarrassment.
Andrea LaRue, Counsel, Office of Senate Majority Leader | Transportation within Mexico via small military aircraft, November 17-18, 2001 | Government of Mexico | No commercial transport available within scheduled time frame.
Denis McDonough, Foreign Policy Advisor, Office of Senate Majority Leader | Transportation within Mexico via small military aircraft, November 17-18, 2001 | Government of Mexico | No commercial transport available within scheduled time frame.
Tiffany Smith, Congressional Fellow, Office of Senator Bob Graham | Transportation within Chile, including lodging and meals, July 1-5, 2001 | Government of Chile | Official travel to meetings relating to U.S./Chile Free Trade issues.
Gordon Smith, U.S. Senator | Transportation within Poland, Warsaw to Lublin, and return, June 2, 2001 | Government of Poland | No commercial transport available within scheduled time frame.
Sharon Smith, Spouse of Senator | Transportation within Poland, Warsaw to Lublin, and return, June 2, 2001 | Government of Poland | No commercial transport avaialble within scheduled time frame.
George Voinovich, U.S. Senator | Transportation within Poland, Warsaw to Lublin, and return, June 2, 2001 | Government of Poland | No commercial transport available within scheduled time frame.
Jane Voinovich, Spouse of Senator | Transportation within Poland, Warsaw to Lublin, and return, June 2, 2001 | Government of Poland | No commercial transport available within scheduled time frame.
Sally Walsh, Director, Interparliamentary Services | Transportation within Poland, Warsaw to Lublin, and return, June 2, 2001 | Government of Poland | No commercial transport available within scheduled time frame.
Sally Walsh, Director, Interparliamentary Services | Transportation within Mexico via small military aircraft, November 17-18, 2001 | Government of Mexico | No commercial transport available to accommodate meetings scheduled with Mexican officials.

AGENCY: U.S. House of Representatives
[Report of Tangible Gifts]
Name and title of person accepting the gift on behalf of the U.S. Government | Gift, date of acceptance on behalf of the U.S. Government, estimated value, and current disposition or location | Identity of foreign donor and government | Circumstances justifying acceptance
Barney Frank, Member of Congress | Oil painting by Maria Tomás. Received April 19, 2001. Value in excess of $1,000. On display in Rep. Frank's Washington Office | President Carlos César, President of the Autonomous Regional Government of the Azores (Portugal) | Non-acceptance would have caused embarrassment to donor.

AGENCY: U.S. House of Representatives
[Report of Travel or Expenses of Travel]
Name and title of person accepting travel or travel expenses consistent with the interests of the U.S. Government | Brief description and estimated value of travel or travel expenses accepted as consistent with the interests of the U.S. Government and occurring outside the United States | Identity of foreign donor and government | Circumstances justifying acceptance
Bob Barr, Member of Congress | Lodging and meals in Qatar for Member and spouse, April 8-11, 2001 | University of Qatar | Authorized by 5 U.S.C. § 7342(c)(1)(B)(ii).
David E. Bonoir, Member of Congress | Helicopter transport within Pakistan (Islamabad to Muzaffarabad to Islamabad) April 21, 2000 | Pakistan | Authorized by 5 U.S.C. § 7342(c)(1)(B)(ii).
Meredith Broadbent, Committee on Ways and Means | Meals, lodging and travel in Costa Rica, May 27-30, 2001 | Costa Rica | Authorized by 5 U.S.C. § 7342(c)(1)(B)(ii).
Edward A. Bruley, Rep. Bonoir | Helicopter transport within Pakistan (Islamabad to Muzaffarabad to Islamabad) April 21, 2000 | Pakistan | Authorized by 5 U.S.C. § 7342(c)(1)(B)(ii).
Vergil Cabasco, Rep. Dunn | Lodging, meals and transportation in Thailand, April 19-April 22, 2001 | Thailand Ministry of Foreign Affairs | Authorized by 5 U.S.C. § 7342(c)(1)(B)(ii).
Robert J. Castro, Rep. Shaw | Lodging, meals and land transportation in Thailand, April 19-April 22, 2001 | Thailand Ministry of Foreign Affairs | Authorized by 5 U.S.C. § 7342(c)(1)(B)(ii).
Philip Crane, Member of Congress | Meals, lodging and travel in Costa Rica, for Member and spouse, May 27-30, 2001 | Costa Rica | Authorized by 5 U.S.C. § 7342(c)(1)(B)(ii).
Steve Elmendorf, Office of the Democratic Leader | Transportation within Mexico (Mexico City to Leon to Mexico City), plus meal, November 17, 2001 | Mexico | Authorized by 5 U.S.C. § 7342(c)(1)(B)(ii).
Richard A. Gephardt, Minority Leader | Transportation within Mexico (Mexico City to Leon to Mexico City), plus meal, for Minority Leader and spouse, November 17, 2001 | Mexico | Authorized by 5 U.S.C. § 7342(c)(1)(B)(ii).
Lee R. Godown, Rep. Sanchez | Lodging, meals, in-country travel in China, April 9-13, 2001 | Peoples' Republic of China (Chinese Peoples' Institute of Foreign Affairs) | Authorized by 5 U.S.C. § 7342(c)(1)(B)(ii).
Michael M. Honda, Member of Congress | Transportation, meals and admission in China, for Member and spouse, August 4-12, 2001 | Peoples' Republic of China (Chinese Peoples' Institute of Foreign Affairs) | Authorized by 5 U.S.C. § 7342(c)(1)(B)(ii).
Mannik Khatchatrian, Rep. Schiff | Helicopter ride and tour from Yerevan to Naorno-Karabakh, August 22, 2001 | Armenia | Authorized by 5 U.S.C. § 7342(c)(1)(B)(ii).
Ray LaHood, Member of Congress | Lodging in Lebanon, for Member and spouse, May 26-June 3, 2000 | Lebanon | Authorized by 5 U.S.C. § 7342(c)(1)(B)(ii).
Audrey Lesesne, Rep. McIntyre | Lodging, transportation and meals in Thailand, April 19-22, 2001 | Thailand Ministry of Foreign Affairs | Authorized by 5 U.S.C. § 7342(c)(1)(B)(ii).
Meri Maben, Rep. Honda | Transportation, meals and admission in China, August 4-12, 2001 | Peoples' Republic of China (Chinese Peoples' Institute of Foreign Affairs) | Authorized by 5 U.S.C. § 7342(c)(1)(B)(ii).
Moses Mercado, Office of the Democratic Leader | Transportation within Mexico (Mexico City to Puebla), November 17, 2001 | Mexico | Authorized by 5 U.S.C. § 7342(c)(1)(B)(ii).
Donna Pignatelli, Rep. Brown | Travel and meals in Thailand, April 19-22, 2001 | Thailand Ministry of Foreign Affairs | Authorized by 5 U.S.C. § 7342(c)(1)(B)(ii).
Nick J. Rahall, Member of Congress | Lodging and meals in the United Arab Emirates, April 5-8, 2001 | United Arab Emirates | Authorized by 5 U.S.C. § 7342(c)(1)(B)(ii).
Nick J. Rahall, Member of Congress | Lodging and meals in Qatar, April 8-11, 2001 | University of Qatar | Authorized by 5 U.S.C. § 7342(c)(1)(B)(ii).
Andrea Salinas, Rep. Stark | Lodging and meals for staff member and spouse, August 11-August 17, 2001 | Chilean Government | Authorized by 5 U.S.C. § 7342(c)(1)(B)(ii).
Loretta Sanchez, Member of Congress | Lodging, food, in-county travel in China, April 9-April 13, 2001 | Peoples' Republic of China (Chinese People's Institute of Foreign Affairs) | Authorized by 5 U.S.C. § 7342(c)(1)(B)(ii).
Adam B. Schiff, Member of Congress | Helicopter and ground tour from Yerevan to Nagorno-Karabakh, August 22, 2001 | Armenia | Authorized by 5 U.S.C. § 7342(c)(1)(B)(ii).
Brad Smith, Rep. Dreier | Lodging, food and travel within Bangkok, April 19-22, 2001 | Thailand Ministry of Foreign Affairs | Authorized by 5 U.S.C. § 7342(c)(1)(B)(ii).
Gene Smith, Rep. Berman | Lodging, food and travel within Bangkok, April 19-22, 2001 | Thailand Ministry of Foreign Affairs | Authorized by 5 U.S.C. § 7342(c)(1)(B)(ii).
John E. Sununu, Member of Congress | Lodging and meals, April 8-11, 2001 | University of Qatar | Authorized by 5 U.S.C. § 7342(c)(1)(B)(ii).
Michele Taulton, Rep. Crane | Lodging, meals and travel in Costa Rica, May 27-30, 2001 | Costa Rica | Authorized by 5 U.S.C. § 7342(c)(1)(B)(ii).
Lisa Vogt, Rep. Armey | Lodging, ground transportation, food and interpreter in Chile, August 11-14, 2001 | Government of Chile | Authorized by 5 U.S.C. § 7342(c)(1)(B)(ii).
Eric Cantor Member of Congress | Certified antique glass bowl in a personally engraved display case. Received December 12, 2001. Value in excess of $260. On display in Rep. Cantor's Washington Office | Minister of Tourism of Israel | Non-acceptance would have caused embarrassment to donor.

Agency: Department of Commerce
[Report of Tangible Gifts]
Name and title of person accepting gift on behalf of the U.S. Government | Gift, date of acceptance on behalf of the U.S. Government, estimated value, and current disposition or location | Identity of foreign donor and government | Circumstances justifying acceptance
Donald L. Evans, Secretary of Commerce | Department of Commerce, Secretary's Office. Rec'd—November 5, 2001. Est. Value—$1750. 7′4″ x 9′6″ Oriental Rug | Abdelaziz Bouteflika, President, Algeria | Non-acceptance would have caused embarrassment to donor.
Donald L. Evans, Secretary of Commerce | Department of Commerce, Secretary's Office. Rec'd—July 12, 2001. Est. Value—$1200. 114′½″″ x 88″″ Oriental Rug | Abdelaziz Bouteflika, President, Algeria | Non-acceptance would have caused embarrassment to donor and U.S. Government.
Donald L. Evans, Secretary of Commerce | Café Pushkin, Moscow, Russia. Rec'd—July 27, 2001. Est. value—$1200. Painting—“Winter Scene” by A. Yegorov, Circa 1910 | German Gref, Minister, Economic Development and Trade, Russia | Non-acceptance would have caused embarrassment to donor and U.S. Government.
Donald L. Evans, Secretary of Commerce | Department of Commerce, Secretary's Office. Rec'd—August 14, 2001. Est. Value—Pending. Ceremonial dagger—Khanjar | Yusuf bin Alawi bin Abdullah, Minister, Foreign Affairs Sultanate of Oman | Non-acceptance would have caused embarrassment to donor.
Donald L. Evans, Secretary of Commerce | Department of Commerce, Secretary's Office. Rec'd—September 5, 2001. Est. Value—Pending. Obsidian Statue, 6″ | Vicente Fox Quesada, President, Mexico | Non-acceptance would have caused embarrassment to donor.

[FR Doc. 02-16498 Filed 7-19-02; 8:45 am]

BILLING CODE 4710-20-M